DEPARTMENT OF HOMELAND SECURITY

Coast Guard

46 CFR Parts 11 and 12

[Docket No. USCG-2022-0649]

RIN 1625-AC68

Implementation of Training Requirements for Personnel Serving on U.S.-Flagged Passenger Ships That Carry More Than 12 Passengers on International Voyages

AGENCY: Coast Guard, DHS.

ACTION: Notice of proposed rulemaking.

SUMMARY: The Coast Guard proposes to amend its merchant mariner training regulations to implement amendments to the International Convention on Standards of Training, Certification and Watchkeeping for Seafarers, 1978, and the Seafarers' Training, Certification and Watchkeeping Code, to require personnel serving on U.S.-flagged passenger ships carrying more than 12 passengers on international voyages to complete passenger ship emergency familiarization. The proposed rule would expand the applicability of the existing crowd management training requirement to include specified ratings on passenger ships. These required trainings would promote the safety of life at sea.

DATES: Comments and related material must be received by the Coast Guard on or before September 19, 2024.

ADDRESSES: You may submit comments identified by docket number USCG-2022-0649 using the Federal Decision-Making Portal at www.regulations.gov. See the “Public Participation and Request for Comments” portion of the SUPPLEMENTARY INFORMATION section for further instructions on submitting comments.

Collection of information. Submit comments on the collection of information discussed in section VII.D. of this preamble both to the Coast Guard's online docket and to the Office of Information and Regulatory Affairs (OIRA) in the White House Office of Management and Budget using their website www.reginfo.gov/public/do/PRAMain. Comments sent to OIRA on the collection of information must reach OMB on or before the comment due date listed on their website.

Viewing material proposed for incorporation by reference. Make arrangements to view this material by calling the person identified in the FOR FURTHER INFORMATION CONTACT section of this document.

FOR FURTHER INFORMATION CONTACT: For information about this document, call or email Megan Johns Henry, Office of Merchant Mariner Credentialing (CG-MMC-1), Coast Guard; telephone 202-372-1255, email Megan.C.Johns@uscg.mil.

SUPPLEMENTARY INFORMATION:

Table of Contents for Preamble

I. Public Participation and Request for Comments

II. Abbreviations

III. Executive Summary

A. Purpose

B. Legal Authority

C. Summary of Major Provisions

D. Costs and Benefits

IV. Background

V. Discussion of Proposed Rule

VI. Incorporation by Reference

VII. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking and will consider all comments and material received during the comment period. Your comments can help shape the outcome of this rulemaking. If you submit a comment, please include the docket number for this rulemaking, indicate the specific section of this document to which each comment applies, and provide a reason for each suggestion or recommendation.

Submitting comments. We encourage you to submit comments through the Federal Decision-Making Portal at www.regulations.gov. To do so, go to www.regulations.gov, type USCG-2022-0649 in the search box and click “Search.” Next, look for this document in the Search Results column, and click on it. Then click on the Comment option. If you cannot submit your material by using www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the www.regulations.gov Frequently Asked Questions web page. That FAQ page also explains how to subscribe for email alerts that will notify you when comments are posted or if a final rule is published. We review all comments received, but we will only post comments that address the topic of the proposed rule. We may choose not to post off-topic, inappropriate, or duplicate comments that we receive.

Personal Information. We accept anonymous comments. All comments received will be posted without change to www.regulations.gov and will include any personal information you have provided. For more about privacy and submissions to the docket in response to this document, see DHS's eRulemaking System of Records notice (85 FR 14226, March 11, 2020).

We do not plan to hold a public meeting, but we will consider doing so if we determine from public comments that a meeting would be helpful. We would issue a separate Federal Register notice to announce the date, time, and location of such a meeting.

II. Abbreviations

BLS U.S. Bureau of Labor Statistics

BTS Bureau of Transportation Statistics

CFR Code of Federal Regulations

CG-MMC Coast Guard Office of Merchant Mariner Credentialing

CSS Code Code of Safe Practices for Cargo Stowage and Securing

DHS Department of Homeland Security

DOT Department of Transportation

GSA U.S. General Services Administration

HTW Human Element, Training and Watchkeeping

IBR Incorporated by Reference

IMO International Maritime Organization

M&IE Meal and Incidental Expenses

MISLE Marine Information for Safety and Law Enforcement

MMC Merchant Mariner Credential

MSC Maritime Safety Committee

NAICS North American Industry Classification System

OMB Office of Management and Budget

POA Privately Owned Automobile

PSC Port State Control

§ Section

SBA Small Business Administration

SME Subject matter expert

SOLAS International Convention for the Safety of Life at Sea, 1974, as amended

STCW Convention International Convention on Standards of Training, Certification and Watchkeeping for Seafarers, 1978

STCW Code Seafarers' Training, Certification and Watchkeeping Code

U.S.C. United States Code

VSL Value of a Statistical Life

III. Executive Summary

A. Purpose

The purpose of this proposed rule is to ensure the safety of passengers on board U.S.-flagged passenger ships by ensuring all shipboard personnel have completed training and are competent to assist passengers in the event of an emergency. As defined in title 46 of the Code of Federal Regulations (CFR), in sections 11.1103 and 12.903,¹ passenger ships are those ships carrying more than 12 passengers on an international voyage.

¹ The Coast Guard adopted these definitions from the International Convention for the Safety of Life at Sea (SOLAS), 1974, as amended, and codified them in the CFR. 78 FR 77796 (Dec. 24, 2013). See additional discussion on SOLAS in section IV, Background, of this document.

The growing world-wide popularity of passenger ships as a vacation destination has resulted in the launching of consistently larger foreign-flagged ships and subsequent concerns over passenger safety. Passenger-ship travel requires passengers to be assured of their safety regardless of where the ship originates or where it sails. Typically, passengers are on board these ships for a short time and do not have maritime experience, so they rely on the ship's crew to assist them in emergency situations. It may be impossible for passengers to identify which crewmembers are trained to assist them in an emergency. Shipboard emergency situations could pose risks to life, health, and safety, as well as damage to property and the marine environment.

With this rulemaking, the Coast Guard proposes requiring passenger ship emergency familiarization for all shipboard personnel on U.S.-flagged passenger ships, which may prevent the loss of life at sea, reduce the risk of injury, and increase protection of property and the marine environment. The Coast Guard proposes expanding the applicability of the existing crowd management training requirement to include ratings qualified under Chapters II, III, and VII of the STCW Convention ² on passenger ships.

² Ratings qualified under Chapters II, III, and VII of the STCW Convention are: Able Seafarer Deck, Able Seafarer Engine, Ratings Forming Part of a Navigational Watch, and Ratings Forming Part of an Engine-room Watch.

B. Legal Authority

The legal basis of this proposed rule is title 14 of the United States Code (U.S.C.), section 102(3), which grants the Coast Guard broad authority to promulgate and enforce regulations for the promotion of safety of life and property on waters subject to the jurisdiction of the United States. More specifically, 46 U.S.C. 7101 and 7301 authorizes the Secretary of the Department of Homeland Security (DHS) to prescribe the requirements for the credentialing of officers and ratings respectively. The Secretary has delegated these statutory authorities to the Coast Guard through DHS Delegation No. 00170.1(II)(92)(e), Revision No. 01.4, which generally authorizes the Coast Guard to determine and establish the experience and professional qualifications required for the issuance of credentials.

C. Summary of Major Provisions

This proposed rule would make the following changes, which would apply to all personnel serving on U.S.-flagged passenger ships that carry more than 12 passengers on international voyages:

(1) Incorporates by reference the 2017 Edition of the International Convention on Standards of Training, Certification and Watchkeeping for Seafarers, 1978 (STCW Convention), and the Seafarers' Training, Certification and Watchkeeping Code (STCW Code), which include amendments through 2016, in 46 CFR parts 11 and 12. The STCW Convention and the STCW Code prescribe a five-tiered passenger ship training approach which is detailed in Section V, Discussion of Proposed Rule, in this document.

(2) Adds a new requirement for all shipboard personnel to complete passenger ship emergency familiarization appropriate to their capacity, duties, and responsibilities during an emergency before being assigned to shipboard duties. The passenger ship emergency familiarization requirement applies to all shipboard personnel, including masters, officers, and ratings qualified under Chapters II, III, and VII of the STCW Convention. This familiarization would not require Coast Guard approval in accordance with 46 CFR part 10, subpart D, and can be conducted on board the ship or at a shore-based location. Mariners or vessel operators should maintain documentation verifying that personnel have completed the passenger ship emergency familiarization.

(3) Expands the applicability of crowd management training to include ratings qualified under Chapters II, III, and VII of the STCW Convention. Crowd management courses currently require Coast Guard approval and will continue to require Coast Guard approval. Approved crowd management courses are readily available to mariners.

D. Costs and Benefits

This proposed rule would affect 1,080 personnel (200 officers, 44 specified ratings,³ and 836 personnel) serving on 50 U.S-flagged passenger ships. For each passenger ship, we assume two individuals serve in each billet, to account for the rotational nature of shipboard employment. The cost to the regulated industry would be approximately $375,707, in 2021 dollars, annualized, and $3,374,817 total, discounted at 2 percent. The proposed rule does not create additional costs for the Federal Government. In addition, this proposed rule would not result in additional costs to obtain a Merchant Mariner Credential (MMC) endorsement, because the training requirements would be verified through presentation of course completion documentation during shipboard inspections, and not via an MMC endorsement.

³ Specified rating for this proposed rule means various categories of ordinary seaman, able seaman, and qualified members of the engine department, issued on MMCs. For the purpose of estimates, specified ratings are the closest to the ratings qualified under STCW Chapters II, III, and VII.

The expected benefits of this proposed rule would be the improvement of the safety of life at sea through increased mariner competence. It would also ensure that U.S.-flagged passenger ships would not be subject to additional Port State Control (PSC) requirements in foreign ports.

IV. Background

The STCW Convention establishes minimum standards for training, certification, and watchkeeping for seafarers. The STCW Convention includes competence requirements for seafarers to address emergencies on passenger ships. The STCW Convention applies to personnel engaged on seagoing ships operating seaward of the boundary line specified in 46 CFR part 7. Coast Guard regulations in 46 CFR 10.107 define the boundary line as “mark[ing] the dividing point between internal and offshore waters for the purposes of several U.S. statutes and, with exceptions, generally follows the trend of the seaward, highwater shorelines. See 46 CFR part 7 for the specified boundary line location.

The International Convention for the Safety of Life at Sea, 1974, as amended (SOLAS), sets international standards for vessel safety. SOLAS defines “passenger ship” as any ship carrying more than 12 passengers on an international voyage.⁴ The Coast Guard adopted this definition in 46 CFR 11.1103 and 12.903.⁵ Every ship subject to SOLAS must maintain a muster list to identify the functions and duties of each crewmember in an emergency.⁶ The muster list must also specify the duties assigned to crewmembers in relation to passengers in case of an emergency. The Coast Guard has an established program for the credentialing of personnel serving on U.S. vessels that is governed by domestic statutes in 14 and 46 U.S.C.,⁷ and in 46 CFR parts 11, 12 and 13. Through these domestic statutes and regulations, the Coast Guard implements the provisions of the STCW Convention and the STCW Code. Current regulations in 46 CFR part 11, subpart K—Officers on a Passenger Ship When on an International Voyage, detail the crowd management training requirements for masters, officers, and personnel working onboard U.S.-flagged passenger ships on an international voyage designated on the muster list to assist passengers in emergency situations. Regulations in 46 CFR part 12, subpart I—Crewmembers on a Passenger Ship on an International Voyage, detail the requirements for seafarers working on U.S.-flagged passenger ships on an international voyage who perform duties that involve safety or care for passengers. These personnel must meet the appropriate requirements of STCW Regulation V/2 and section A-V/2 of the STCW Code, including safety training, training in crowd management, crisis management and human behavior, and passenger safety cargo safety and hull integrity training, and must hold documentary evidence showing they meet those requirements through approved or accepted training.

⁴ SOLAS Chapter I, Part A, Regulation 2(f).

⁵ 78 FR 77796 (Dec. 24, 2013). This definition of “passenger ship” is limited to subpart K of 46 CFR part 11 and subpart I of 46 CFR part 12.

⁶ SOLAS, Chapter III, Part B, Regulation 37.

⁷ 14 U.S.C. 102(3), 46 U.S.C. 7101, 7306, and 7313.

On January 13, 2012, the Costa Concordia, an Italian passenger ship operating in the Mediterranean Sea with 3,206 passengers and 1,023 crewmembers on board, struck a reef off the Italian coastline. The incident resulted in the loss of 32 lives (27 passengers and 5 crewmembers), injury to 157 others, and the total loss of the ship. In the ensuing accident report,⁸ the Italian Ministry of Infrastructures and Transports concluded that multiple factors contributed to the injuries and loss of life. Some of these factors included delayed management of the emergency response and evacuation process, inconsistencies in assignment of duties, communication issues due to the different backgrounds of passengers and crewmembers, and passenger confusion over which personnel employed on passenger ships were trained to assist in an emergency.⁹

⁸ The Ministry of Infrastructures and Transports, Marine Casualties Investigative Body, Cruise Ship COSTA CONCORDIA, Marine Casualty on January 13, 2012. This report is available at: https://www.mitma.gob.es/recursos_mfom/2012costaconcordia.pdf (last visited 6/3/2024).

⁹ Id at 159.

The notable loss of the Costa Concordia provided the rationale for initiating a review of the passenger ship training provisions in the STCW Convention and the STCW Code. In 2012, the International Maritime Organization (IMO) Maritime Safety Committee (MSC) considered a proposal submitted by the United States to review and potentially amend the STCW required training for mariners working on passenger ships, considering new challenges posed by the increased size of modern cruise ships and the large number of passengers on board. The MSC tasked the Human Element, Training and Watchkeeping (HTW) Subcommittee with addressing these challenges.

Recognizing that significant numbers of U.S. passengers travel on foreign-flagged passenger ships, the United States submitted multiple proposals to the HTW subcommittee for consideration while developing new training requirements for personnel on passenger ships. The U.S. submission to the third session of the HTW subcommittee included a tiered approach to training and familiarization for personnel on passenger ships, including those providing direct service to passengers, and passenger ship emergency familiarization. This proposal was used as the basis of the amendments to the STCW Convention and the STCW Code that were adopted in 2016 and entered into force on July 1, 2018.¹⁰

¹⁰ While the amendments entered into force on July 1, 2018, the STCW Convention is not self-implementing. The United States must issue regulations to meet its treaty obligations. As such, all compliance with the 2016 amendments and 2021 policy letter (CG-MMC Policy Letter 02-21, “Guidance On Voluntary Compliance With Training Requirements For Personnel Serving On U.S.-Flagged Passenger Ships That Carry More Than 12 Passengers On International Voyages”) has been voluntary in nature. The Coast Guard does not have information on which operating companies or mariners in the affected population have taken measures to comply with the 2016 amendments because compliance is voluntary and not required to be recorded during an annual inspection.

The amendments to the STCW Convention and Code added passenger ship emergency familiarization requirements for personnel on passenger ships. They also expanded the applicability of crowd management training to include ratings qualified under Chapters II, III, and VII of the STCW Convention with the current applicability of masters, officers, and personnel designated on the muster list to assist passengers in emergency situations.¹¹ The STCW Convention and the STCW Code require that passenger ship personnel are familiar with safety features, emergency equipment and procedures, basic communication, and crowd control techniques in order to assist passengers, including elderly and disabled individuals, during an emergency.

¹¹ IMO Resolution MSC.416(97), Consideration and Adoption of Amendments to Mandatory Instruments, Amendments to the International Convention on Standards of Training, Certification and Watchkeeping for Seafarers (STCW), 1978, as amended, and the Seafarers' Training, Certification and Watchkeeping (STCW) Code, Annex 1, page 4. A copy of this resolution is available in the docket where indicated under the ADDRESSES portion of this preamble.

This proposed rule would codify the STCW Convention and the STCW Code, including amendments through 2016. As a signatory to the STCW Convention, the United States must ensure compliance with its treaty obligations through full implementation of amendments to the STCW Convention and the STCW Code. The STCW Convention is not self-implementing; therefore, the Coast Guard does not have discretion and must issue regulations to implement these requirements. Failure to meet the treaty obligations could cause the United States to lose status on the IMO's “White List,” which distinguishes administrations that are in full compliance with the STCW Convention and the STCW Code. Loss of this status could cause U.S. ships to be subject to more rigorous PSC inspections in foreign ports, including possible detainment or denial of entry. Additionally, U.S. mariners could be ineligible to serve on foreign-flagged ships.

On August 5, 2021, the Coast Guard's Office of Merchant Mariner Credentialing (CG-MMC) issued Policy Letter 02-21, “Guidance On Voluntary Compliance With Training Requirements For Personnel Serving On U.S.-Flagged Passenger Ships That Carry More Than 12 Passengers On International Voyages”,¹² to advise U.S.-flagged passenger ship operating companies of the amendments to the STCW Convention and the STCW Code and encourage voluntary compliance. This policy letter will be cancelled when this proposed rule becomes final and effective.

¹² The document is available at: https://www.dco.uscg.mil/Portals/9/DCO%20Documents/5p/5ps/MMC/MMC-Policy-Letter-02-21-Final-05AUG21.pdf?ver=8GP3iNQS2pWTD6NG3-eDTw%3D%3D#:~:text=This%20policy%20letter%20provides%20guidance,Convention%20and%20the%20STCW%20Code. (last visited 6/3/2024).

V. Discussion of Proposed Rule

In the following paragraphs, we provide a section-by-section description of our proposed amendments to 46 CFR parts 11 and 12, in section number order with topical headings.

46 CFR Part 11

Authority Citations

We are deleting reference to 46 U.S.C. 8906, and adding, in its place, 46 U.S.C. chapter 89. Chapter 89 of 46 U.S.C. contains the authorities for requiring various small vessel officer endorsements, including the civil penalties (in 46 U.S.C. 8906) for violating the chapter. We are also updating the reference to DHS Delegation No. 00170.1, Revision No. 01.4, to reflect the most recent revision of this document.

Subpart A—General

Section 11.102—Incorporation by Reference

The Coast Guard proposes to update the centralized incorporation by reference for the 2017 Edition of the STCW Convention and the STCW Code, which includes amendments through 2016. The STCW Convention sets the minimum standards for training, certification and watchkeeping for seafarers. The STCW Code addresses the technical aspects of the STCW Convention, including minimum standards of competence and the appropriate methods for demonstrating competence, which includes training. Currently, regulations in 46 CFR chapter I, subchapter B, reference the STCW Convention and the STCW Code, as amended through 2011. Additional amendments to the STCW Convention and the STCW Code were adopted in 2016 and entered into force on July 1, 2018.¹³ These amendments contain updated seafarer training requirements to address emergencies on passenger ships, prescribing a five-tiered passenger ship training approach.

¹³ See footnote 9.

The five-tiered approach includes passenger ship emergency familiarization, safety training for personnel providing direct service to passengers, passenger ship crowd management, crisis management and human behavior, and passenger safety, cargo safety, and hull integrity training.¹⁴ Each tier builds on the previous tier of training, and the proposed training requirements are structured as appropriate to the associated position of responsibility on board the ship.

¹⁴ STCW Convention, Regulation V/2 and the STCW Code, Section A-V/2, Mandatory minimum requirements for the training and qualifications of masters, officers, ratings, and other personnel on passenger ships.

Subpart K—Officers on a Passenger Ship When on an International Voyage

Section 11.1105—General Requirements for Officer Endorsements

The Coast Guard proposes revising the title of this section from “General requirements for officer endorsements” to “General requirements.” The proposed change would align with the purpose of this subpart, in accordance with the STCW Convention and the STCW Code. Other specific changes to § 11.1105 are detailed below.

In summary, we propose combining existing paragraph (a) introductory text and text from paragraph (a)(1) into paragraph (a) introductory text; adding new paragraph (a)(1); redesignating paragraphs (a)(1)(i) as (a)(3), (a)(1)(ii) as (a)(2), (a)(1)(iii) as (a)(4) and (a)(1)(iv) as (a)(5); redesignating paragraph (a)(2) as paragraph (b); and redesignating existing paragraphs (b), (c), and (d) as paragraphs (c), (d) and (e) respectively. These changes would allow paragraphs (a)(1) through (a)(5) to refer to the applicable paragraphs (1 through 5) of section A-V/2 of the STCW Code, as detailed in the following discussion of those paragraphs.

In revised paragraph (a) introductory text, we would change the word “vessel” to “ship” for consistency in terminology in this part and add the text, “before being assigned to shipboard duties” for clarity. The language from existing paragraph (a)(1) in revised paragraph (a) introductory text details the incorporation of the STCW Regulation V/2 and of section A-V/2 of the STCW Code. Revised paragraph (a) introductory text would read, “To serve on a passenger ship on international voyages, before being assigned shipboard duties, masters, deck officers, chief engineers, and engineer officers, must meet the appropriate requirements of regulation V/2 of the STCW Convention and of section A-V/2 of the STCW Code (incorporated by reference, see § 11.102) as follows:”.

New paragraph (a)(1) would specify that all officers and personnel aboard passenger ships must have completed passenger ship emergency familiarization appropriate to their capacity, duties, and responsibilities. Paragraph (a)(1) would refer to section A-V/2 paragraph 1 of the STCW Code, which requires that passenger ship emergency familiarization be completed before personnel are assigned to shipboard duties.

In accordance with section A-V/2 paragraph 1 of the STCW Code, passenger ship emergency familiarization must include topics to familiarize personnel with the general safety features aboard the ship, the location of essential safety equipment, including life-saving appliances, the importance of personal conduct during the implementation of emergency plans, and restrictions on the use of elevators during emergencies. Passenger ship emergency familiarization, in accordance with section A-V/2 paragraph 1 of the STCW Code, also includes the requirement to communicate with passengers during an emergency, including the ability to communicate in the working language of the ship, including non-verbally communicating safety information, and understanding one of the languages in which emergency announcements may be broadcast on the ship during an emergency or drill.

Passenger ship emergency familiarization proposed in paragraph (a)(1) would not require Coast Guard approval in accordance with 46 CFR part 10, subpart D, and could be conducted on board the ship or in a shore-based location. Operating companies would have to ensure personnel are familiarized with the shipboard layout, their shipboard duties, and emergency procedures. Personnel or vessel operating companies should maintain documentary evidence verifying that personnel have completed the Passenger Ship Emergency Familiarization training. It is the responsibility of the operating companies, who are obligated by Regulation I/14, “Responsibilities of Companies” of the STCW Convention, to ensure that documentation relevant to personnel training is maintained and readily accessible. Port State Control officers or Coast Guard inspectors may ask to see evidence that personnel have completed passenger ship emergency familiarization.

Redesignated paragraph (a)(2), which already requires the completion of safety training for personnel providing direct service to passengers in passenger spaces, would be revised to include the addition of “officers” to personnel providing direct service to passengers in passenger spaces. In addition, we would remove “onboard passenger ships” from the explanation of passenger spaces. We would add “passenger ship” to more accurately describe the type of safety training required. Paragraph (a)(2) would refer to section A-V/2 paragraph 2 of the STCW Code, which requires that passenger ship safety training be completed before personnel are assigned to shipboard duties.

In accordance with section A-V/2 paragraph 2 of the STCW Code, passenger ship safety training must include communication. Specifically, it must include:

• The ability to communicate with passengers during an emergency, taking into account the language or languages appropriate to the principal nationalities of passengers carried on the particular route;

• The likelihood that an ability to use elementary English vocabulary for basic instructions can provide a means of communicating with a passenger in need of assistance, whether or not the passenger and crew member share a common language;

• The possible need to communicate during an emergency by some other means, such as by demonstration, hand signals, or calling attention to the location of instructions, muster stations, life-saving devices, or evacuation routes when oral communication is impractical;

• The extent to which complete safety instructions have been provided to passengers in their native language or languages;

• The languages in which emergency announcements may be broadcast during an emergency or drill to convey critical guidance to passengers and to facilitate crew members in assisting passengers; and

• In accordance with section A-V/2 paragraph 2 of the STCW Code, passenger ship safety training must include life-saving appliances, specifically the ability to demonstrate to passengers the use of personal life-saving appliances, and embarkation procedures with special attention to disabled persons and persons needing assistance.

Passenger ship safety training proposed in paragraph (a)(2) would not require Coast Guard approval in accordance with 46 CFR part 10, subpart D, and could be conducted on board the ship or in a shore-based location. Personnel completing passenger ship safety training are obligated to maintain documentary evidence of their training by Regulation V/2, “Mandatory minimum requirements for the training and qualification of masters, officers, ratings and other personnel on passenger ships,” of the STCW Convention.

The Coast Guard would make non-substantive changes in redesignated paragraph (a)(3), which already requires the completion of crowd management training. In addition, the Coast Guard would make the following substantive changes to clarify which personnel are required to complete the required training:

• The text, “ratings qualified under Chapters II, III, and VII of the STCW Convention ” would be added to masters, officers, and personnel designated on muster lists to assist passengers in emergency situations.

• The text, “approved or accepted” would be added to clarify that masters, officers, ratings qualified under Chapters II, III, and VII of the STCW Convention, and personnel designated on muster lists to assist passengers in emergency situations must complete “approved or accepted” training in passenger ship crowd management. Requiring approved or accepted training aligns with 46 CFR part 10, subpart D, which allows training to be either approved or accepted by the Coast Guard.

• The text would be revised to refer to section A-V/2 paragraph 3 of the STCW Code, which requires crowd management training to be completed in accordance with STCW regulation V/2, paragraph 7, as set out in table A-V/2-1. Personnel completing crowd management training are obligated to maintain documentary evidence of their training by Regulation V/2, “Mandatory minimum requirements for the training and qualification of masters, officers, ratings and other personnel on passenger ships,” of the STCW Convention.

Redesignated paragraph (a)(4) would be revised to make one non-substantive change. Additionally, redesignated paragraph (a)(4), which already includes a requirement for the completion of crisis management and human behavior, would be revised to clarify that training in crisis management and human behavior must be approved “or accepted” training in accordance with 46 CFR part 10, subpart D. Paragraph (a)(4) would also be revised to refer to section A-V/2 paragraph 4 of the STCW Code, which requires training in crisis management and human behavior to be completed in accordance with STCW regulation V/2 paragraph 8, as set out in table A-V/2-2. Personnel completing crisis management and human behavior training are obligated to maintain documentary evidence of their training by Regulation V/2, “Mandatory minimum requirements for the training and qualification of masters, officers, ratings and other personnel on passenger ships,” of the STCW Convention.

Redesignated paragraph (a)(5) would be revised to make one non-substantive change. Redesignated paragraph (a)(5) would also be revised to clarify that training in passenger safety, cargo safety, and hull integrity must be approved “or accepted” training in accordance with 46 CFR part 10, subpart D. Paragraph (a)(5) would also be revised to refer to section A-V/2 paragraph 5 of the STCW Code, which requires that training must be completed before personnel are assigned to shipboard duties.

In accordance with section A-V/2 paragraph 5 of the STCW Code, passenger safety, cargo safety, and hull integrity training must include loading and embarkation procedures and, specifically, the ability to properly apply the procedures established for the ship regarding loading and discharging vehicles, rail cars and other cargo transport units, including related communications; lowering and hoisting ramps; setting up and stowing retractable vehicle decks; and embarking and disembarking passengers, with special attention to disabled persons and persons needing assistance.

Passenger safety, cargo safety, and hull integrity training must also include:

• Carriage of dangerous goods, including the ability to apply any special safeguards, procedures, and requirements regarding the carriage of dangerous goods on board ro-ro passenger ships; ¹⁵

¹⁵ A ro-ro, or roll-on/roll-off passenger ship is defined in Chapter II-1, Regulation 2 of SOLAS, as being “a passenger ship with ro-ro cargo spaces or special category spaces.”

• Securing cargoes, specifically the ability to correctly apply the provisions of the Code of Safe Practices for Cargo Stowage and Securing (CSS Code) ¹⁶ to the vehicles, rail cars, and other cargo transport units carried, and to properly use the cargo-securing equipment and materials provided, considering their limitations;

¹⁶ The CSS Code provides an international standard for the safe stowage and securing of cargoes to promote the safety of life both at sea, and during loading and discharge. See https://www.imo.org/en/OurWork/Safety/Pages/CSS-Code.aspx#:~:text=All%20cargoes%20should%20be%20stowed,be%20properly%20qualified%20and%20experienced. (last visited 6/3/2024).

• Stability, trim, and stress calculations, specifically the ability to make proper use of the stability and stress information provided; calculate stability and trim for different conditions of loading, using the stability calculators or computer programs provided; calculate load factors for decks; and calculate the impact of ballast and fuel transfers on stability, trim, and stress; and

• Opening, closing and securing hull openings, including the ability to properly apply the procedures established for the ship for opening, closing and securing bow, stern and side doors and ramps; correctly operating the associated systems and conducting surveys on proper sealing and ro-ro deck atmosphere, including the ability to use equipment, where carried, to monitor atmosphere in ro-ro spaces and properly apply the procedures established for the ship for ventilation of ro-ro spaces during lading and discharging of vehicles, while on voyage and in emergencies.

Personnel completing passenger safety, cargo safety, and hull integrity training are obligated to maintain documentary evidence of their training by Regulation V/2, “Mandatory minimum requirements for the training and qualification of masters, officers, ratings and other personnel on passenger ships,” of the STCW Convention.

Redesignated paragraph (b) would be revised to state that, “Personnel required to be trained in accordance with paragraph (a) of this section must hold documentary evidence of successful completion of training as proof of meeting these requirements.” These revisions clarify who is required to hold evidence of successful completion of training in accordance with paragraph (a). We are proposing to remove the existing text, “through approved or accepted training,” to clarify that the training required in paragraphs (a)(1) and (a)(2) would not have to be Coast Guard-approved or accepted training, while the training required in paragraphs (a)(3), (a)(4), and (a)(5) must be Coast Guard-approved or accepted training.

Redesignated paragraph (c) would be revised to update terminology used in this subpart and make other non-substantive changes. Paragraph (c) would also be revised to correct references to other revised paragraphs in this subpart for personnel who must provide evidence of having maintained the required standard of competence every 5 years.

Redesignated paragraph (d) would be revised to update the paragraph reference, which was redesignated from paragraph (b) to paragraph (c), and would be revised to replace the word “sea” with “relevant seagoing” to better describe the service needed to maintain the standard of competence.

Redesignated paragraph (e) would be revised to replace the word “vessels” with “ships” to provide consistency of terminology used in this subpart.

46 CFR Part 12

Authority Citations

The Coast Guard proposes to revise the authorities listed for Part 12 by adding 46 U.S.C. 7303 through 7316. We are proposing this change to more clearly cite the statutory authority provided by Congress to promulgate regulations for all classifications of ratings endorsements with respect to standards of competency, training, and sea service. We are also updating the reference to DHS Delegation No. 00170.1, Revision No. 01.4, to reflect the most recent revision of this document.

Subpart A—General

Section 12.103—Incorporation by Reference.

The Coast Guard proposes to redesignate paragraph (b)(1), previously reserved, as paragraph (b)(2). New paragraph (b)(1) would be added to incorporate by reference the 2017 Edition of the STCW Convention, which includes amendments through 2016. Redesignated paragraph (b)(2) would reference the 2017 Edition of the STCW Code, which include all amendments through 2016.¹⁷

¹⁷ See section V, Discussion of Proposed Rule, 46 CFR part 11, subpart A, in this document for a description of the STCW Convention and the STCW Code.

Subpart I—Ratings and Personnel on a Passenger Ship When on an International Voyage

The Coast Guard proposes revising the title of this subpart from “Crewmembers on a Passenger Ship on an International Voyage,” to “Ratings and Personnel on a Passenger Ship When on an International Voyage.” The proposed change would align with the purpose of this subpart, in accordance with the STCW Convention and the STCW Code. We propose making an editorial change to § 12.901; for § 12.905, we propose combining existing paragraph (a) introductory text and paragraph (a)(1) into paragraph (a) introductory text; redesignating existing paragraph (a)(2) as paragraph (b); adding new paragraphs (a)(1) through (a)(5); and redesignating existing paragraphs (b), (c), and (d) as paragraphs (c), (d) and (e) respectively. Proposed new paragraphs (a)(1) through (a)(5) would refer to the applicable paragraphs (1 through 5) of section A-V/2 of the STCW Code. The specific changes to § 12.905 are detailed below.

Section 12.905—General Requirements

In revised paragraph (a) introductory text, we would replace the word “vessel” with “ship” to provide consistency of terminology used in this subpart and revise the text to clarify when and to whom the requirements apply. We would also move language from existing paragraph (a)(1) to paragraph (a) introductory text to detail the incorporation of the STCW Regulation V/2 and of section A-V/2 of the STCW Code. Revised paragraph (a) introductory text would read, “To serve on a passenger ship on an international voyage, before being assigned shipboard duties, personnel must meet the appropriate requirements in STCW Regulation V/2 and Section A-V/2 of the STCW Code (both incorporated by reference, see § 12.103) as follows:”.

Paragraph (a)(1) would be amended to specify that all personnel must have completed passenger ship emergency familiarization appropriate to their capacity, duties, and responsibilities. Paragraph (a)(1) would also refer to section A-V/2 paragraph 1 of the STCW Code.¹⁸ Passenger ship emergency familiarization proposed in paragraph (a)(1) would not require Coast Guard approval in accordance with 46 CFR part 10, subpart D, and could be conducted on board the ship or in a shore-based location.

¹⁸ See section V, Discussion of Proposed Rule, § 11.1105, in this document for a description of section A-V/2 paragraph 1 of the STCW Code.

Paragraph (a)(2) would be redesignated as paragraph (b). New paragraph (a)(2) would be added to include the requirement that personnel providing direct service to passengers in passenger spaces must have completed the passenger ship safety training. Paragraph (a)(2) would also refer to section A-V/2 paragraph 2 of the STCW Code.¹⁹ Passenger ship safety training proposed in paragraph (a)(2) would not require Coast Guard approval in accordance with 46 CFR part 10, subpart D, and could be conducted on board the ship or in a shore-based location.

¹⁹ See section V, Discussion of Proposed Rule, § 11.1105, in this document for a description of section A-V/2 paragraph 2 of the STCW Code.

Proposed new paragraph (a)(3) would add the requirement that ratings qualified under Chapters II, III, and VII of the STCW Convention and personnel designated on the muster list to assist passengers in an emergency situation onboard passenger ships must have completed approved or accepted training in passenger ship crowd management. Passenger ship crowd management training must be approved or accepted training in accordance with 46 CFR part 10, subpart D. This paragraph would also refer to section A-V/2 paragraph 3 of the STCW Code.²⁰

²⁰ See section V, Discussion of Proposed Rule, § 11.1105, in this document for a description of section A-V/2 paragraph 3 of the STCW Code.

Proposed new paragraph (a)(4) would add the requirement that personnel designated on muster lists as having responsibility for the safety of passengers in emergency situations onboard passenger ships must have completed approved or accepted training in crisis management and human behavior. Crisis management and human behavior training must be approved or accepted training in accordance with 46 CFR part 10, subpart D. This paragraph would also refer to section A-V/2 paragraph 4 of the STCW Code.²¹

²¹ See section V, Discussion of Proposed Rule, § 11.1105, in this document for a description of section A-V/2 paragraph 4 of the STCW Code.

Proposed new paragraph (a)(5) would add the requirement that personnel assigned immediate responsibility for embarking and disembarking passengers, loading, discharging, or securing cargo, or closing hull openings onboard ro-ro passenger ships must have completed approved or accepted training in passenger safety, cargo safety, and hull integrity. Passenger safety, cargo safety, and hull integrity training must be approved or accepted training in accordance with 46 CFR part 10, subpart D. This paragraph would also refer to section A-V/2 paragraph 5 of the STCW Code.²²

²² See section V, Discussion of Proposed Rule, § 11.1105, in this document for a description of section A-V/2 paragraph 5 of the STCW Code.

Redesignated paragraph (b) would be revised to require personnel completing the training described in paragraph (a) to hold documentary evidence of meeting these requirements.

Redesignated paragraph (c) would be revised to update terminology used in this subpart and make other non-substantive changes. Paragraph (c) would also be revised to correct references to other revised paragraphs in this subpart for personnel who must provide evidence of having maintained the required standard of competence every 5 years.

Redesignated paragraph (d) would be revised to update the paragraph reference which was redesignated from paragraph (b) to paragraph (c) and would be revised to replace the word “sea” with “relevant seagoing” to better describe the service needed to maintain the standard of competence.

VI. Incorporation by Reference

Material proposed for incorporation by reference appears in the proposed regulatory text for 46 CFR 11.102 and 12.103. The sections that reference these standards, and the locations and web addresses where these standards are available, are listed in those sections. The material incorporated by reference is summarized in this preamble in Section V, Discussion of Proposed Rule, under the discussions of §§ 11.102 and 11.1105. For information about how to view this material, see the ADDRESSES section of this preamble. Copies of the material are available from the sources listed in the proposed regulatory text for §§ 11.102 and 12.103. Before publishing a binding rule, we will submit this material to the Director of the Federal Register for approval of the incorporation by reference.

Consistent with 1 CFR part 51 incorporation by reference provisions, this material is reasonably available. Interested persons have access to it through their normal course of business, may purchase it from the IMO identified in 46 CFR 11.102 or 12.103, or may view a copy by means we have identified in those sections.

VII. Regulatory Analyses

We developed this proposed rule after considering numerous statutes and Executive orders related to rulemaking. A summary of our analyses based on these statutes or Executive orders follows.

A. Regulatory Planning and Review

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

Additionally, Executive Order 13609, “Promoting International Cooperation,” promotes the goal of Executive Order 13563. Executive Order 13609 targets international regulatory cooperation to reduce, eliminate, or prevent unnecessary differences in regulatory requirements. As discussed in sections IV. Background, and V. Discussion of Proposed Rule, as a signatory to the STCW Convention, the United States is required to implement amendments to the STCW Convention and the STCW Code through national regulations.

The Office of Management and Budget (OMB) has not designated this rule a significant regulatory action under section 3(f) of Executive Order 12866, as amended by Executive Order 14094. Accordingly, OMB has not reviewed it. A summary of the proposed rule's impacts is presented below, and a more detailed discussion on the estimated costs and benefits of this proposed rule follows.

The proposed rule would make the following changes, which would apply to all personnel serving on U.S.-flagged passenger ships:

(1) Incorporate by reference the 2017 Edition of the STCW Convention and the STCW Code, to include amendments through 2016 in 46 CFR parts 11 and 12.

(2) Add a new requirement for all personnel to complete passenger ship emergency familiarization appropriate to their capacity, duties, and responsibilities during an emergency. Personnel would have to complete the familiarization before being assigned to shipboard duties. The passenger ship emergency familiarization requirement would apply to all personnel, including masters, officers, and ratings qualified under Chapters II, III, and VII of the STCW Convention. This familiarization would not require Coast Guard approval in accordance with 46 CFR part 10, subpart D, and could be conducted on board the ship or at a shore-based location. Mariners or ship operators should maintain documentation verifying that personnel have completed the passenger ship emergency familiarization.

(3) Expand the applicability of the crowd management training requirement by adding ratings qualified under Chapters II, III, and VII of the STCW Convention to the current applicability of officers and personnel designated on the muster list to assist passengers in emergency situations. Currently, only masters, officers, and personnel designated on the muster list to assist passengers on board passenger ships in emergency situations must complete crowd management training.

The Coast Guard considers the benefits and costs of the proposed rulemaking against the baseline, which is our best assessment of maritime affairs absent this proposed action. The Coast Guard does not have data on whether the U.S.-passenger-ship industry is currently in compliance with the training requirements in this proposal. Pursuant to 46 CFR 1.01-10(f)(1), which authorizes the Coast Guard to supervise the administration of the manning of U.S. ships, PSC officers and Coast Guard inspectors are currently verifying that mariners hold the appropriate credentials and have met the training required by the STCW Convention and the STCW Code, but are not tracking compliance with the requirements outlined in this proposed rule, since compliance is currently voluntary.

While the Coast Guard believes it is possible that personnel may have already completed the required passenger ship trainings before the effective date of this proposed rule, due to a lack of data, we cannot assume compliance. Thus, for the purposes of this regulatory analysis, we assume personnel are not in compliance with the proposed training requirements, and we measure initial compliance costs in the first year of implementation. As a result, the Coast Guard estimates that the operating companies of U.S.-flagged passenger ships would incur undiscounted average annual costs of approximately $352,560, in 2021 dollars, from the passenger ship emergency familiarization requirements, and ratings qualified under Chapters II, III, and VII of the STCW Convention would incur undiscounted average annual costs of $21,185, in 2021 dollars, to comply with the crowd management training requirement. Taken together, the proposed rule would result in annualized costs to industry of approximately $375,707, and total costs of $3,374,817, in 2021 dollars, when discounted at 2 percent over a 10-year period of analysis. The Coast Guard believes the proposed rule would improve safety of life at sea by ensuring passenger ship personnel are equipped to assist passengers in an emergency and would also maintain the ability of passenger ships and mariners to operate in international markets. Table 1 provides a summary of the proposed rule's applicability, affected population, potential costs, and benefits.

Table 1—Summary of the Proposed Rule's Impacts
Category | Summary
Applicability | The proposed rule would apply to personnel serving on U.S.-flagged passenger ships that carry more than 12 passengers on international voyages.
Affected Population | The proposed rule creates costs for 37 operating companies employing 1,080 mariners and other personnel and for 44 specified ratings serving on 50 U.S.-flagged passenger ships.
Cost Impacts | Operating companies would incur undiscounted average annual costs of approximately $352,560 in 2021 dollars, from the passenger ship emergency familiarization requirements. Personnel with ratings qualified under Chapters II, III, and VII of the STCW Convention would incur undiscounted average annual costs of approximately $21,185, in 2021 dollars, in tuition, travel expenses, opportunity cost, and per diem to comply with the crowd management training requirements. Taken together, the proposed rule results in annualized costs to industry of approximately $375,707 and total costs of approximately $3,374,817 in 2021 dollars, when discounted at 2 percent over a 10-year period of analysis.
| This proposed rule creates no new costs for Government.
Unquantified Benefits | The proposed rule aligns U.S. regulations with international standards and ensures the U.S. retains its status on the IMO's “White List” which ensures that U.S.-flagged passenger ships avoid potential detainment or denial of entry in foreign ports and U.S. This ensures U.S.-flagged vessels and mariners retain the ability to operate in international markets.
| The proposed rule promotes international harmonization and reciprocity of maritime regulations between the U.S. and countries where the affected ships in this proposed rule may operate. This reciprocity promotes the safety of U.S. passengers who disproportionately cruise on foreign-flagged ships.
| The proposed rule promotes the safety of life at sea in the case of an emergency which may prevent the loss of life, reduce the risk of injury, and increase protection of property in the marine environment.

Description of Regulatory Changes

This proposed rule would result in multiple changes that have costs. First, the proposed rule would add passenger ship emergency familiarization requirements for officers, ratings, and personnel on passenger ships making international voyages. This training includes topics to familiarize personnel with the general safety features aboard the ship, the location of essential safety equipment, including life-saving appliances, the importance of personal conduct during the implementation of emergency plans, and restrictions on the use of elevators during emergencies. Passenger ship emergency familiarization also includes the requirement to communicate with passengers during an emergency, including the ability to communicate in the working language of the ship, including non-verbally communicating safety information, and understanding one of the languages in which emergency announcements may be broadcast on the ship during an emergency or drill. Second, the proposed rule would expand the applicability of crowd management training by requiring ratings qualified under Chapters II, III, and VII of the STCW Convention to complete this training. Currently, only officers and personnel designated on the muster list to assist passengers in emergency situations are required to complete this training. Table 2 lists and describes the changes we propose to make to 46 CFR parts 11 and 12, with their associated impacts.

Table 2—Proposed Changes to 46 CFR Parts 11 and 12
Section | Description of Change | Impact
Proposed Revisions to 46 CFR Part 11
Part 11 | Revises the authorities listed for part 11 by removing extraneous references related to Executive Order 10173 and updates the reference to DHS Delegation No. 00170.1, Revision No. 01.4, to reflect the most recent revision of this document. | This editorial change would not impose any costs or cost savings.
11.102(a) | Edits paragraph (a) to remove CG-MMC and National Archives and Records Administration (NARA) phone numbers, as well as update the NARA website URL. | This editorial change would not impose any costs or cost savings.
11.102(b) | Edits paragraph (b) introductory text to add IMO phone number, email, and website. | This editorial change would not impose any costs or cost savings.
11.102(b)(1), 11.102(b)(2) | Amends paragraphs (b)(1) and (b)(2) to update the incorporation by reference of the STCW Convention, 2017 Edition, and specifies the paragraphs in 46 CFR part 11 affected by these amendments. | This editorial change would not impose any costs or cost savings.
11.305, 11.307, 11.309, 11.311, 11.313, 11.315, 11.317, 11.319, 11.321, 11.325, 11.327, 11.331, 11.333 | Amends footnote 2 in Table 1 of each impacted section to add reference to the appropriate section of the STCW Code. | This editorial change would not impose any costs or cost savings.
11.329 | Renumbers footnotes associated with Table 1 for greater consistency with other sections, and amends footnote 2 in Table 1 of this section to add reference to the appropriate section of the STCW Code. | This editorial change would not impose any costs or cost savings.
11.1105 | Removes the term “for officer endorsements” from the title to reflect that the Coast Guard does not issue endorsements in accordance with any of the requirements in this subpart. | This editorial change would not impose any costs or cost savings.
11.1105(a) | Merges paragraph (a)(1) into paragraph (a) introductory text. Replaces the word “vessel” with “ship” for consistency with the terminology used in this subpart, adds the text “before being assigned shipboard duties” and deletes the text “of this part” for clarity. | This editorial change would not impose any costs or cost savings.
11.1105(a)(1) | Amends paragraph (a)(1) to add a new requirement for officers and personnel to complete a passenger ship emergency familiarization. Paragraph (a)(1)(i) is revised and redesignated as new paragraph (a)(3) to retain the requirement for crowd management training. | This change would create new costs and benefits. Operating companies would incur initial-year costs of $390,941 (in undiscounted 2021 dollars) to comply with passenger ship emergency familiarization requirements. Affects 200 officers, 44 specified ratings, and 836 personnel serving on 50 U.S.-flagged passenger ships, with numbers declining in subsequent years due to ships exiting the industry. Benefits include enhanced passenger safety at sea in the case of an emergency which may prevent the loss of life, reduce the risk of injury, and increase protection of property in the marine environment. It also increases international harmonization of maritime regulation and allows the U.S. to maintain its status on the IMO's “White List”.
11.1105(a)(2) | Continues renumbering of paragraphs in section 11.1105 for consistency with paragraph numbering in the STCW Code, and further clarifies that officers and personnel are required to comply with the STCW Code's training requirements. | This editorial change would not impose any costs or cost savings.
11.1105(a)(3) | Paragraph (a)(1)(i) is redesignated as paragraph (a)(3) to retain the requirement for crowd management training. Revisions include adding that training may be accepted, and adding “ratings qualified under Chapters II, III, and VII of the STCW Convention” as affected mariners to harmonize with changes in 46 CFR Part 12. | This editorial change would not impose any costs or cost savings since it is a revision of an existing requirement. The new costs associated with expanding crowd management training requirement to ratings qualified under Chapters II, III, and VII of the STCW Convention will be reflected in the changes to 46 CFR Part 12.
11.1105(a)(4), 11.1105(a)(5) | Paragraph (a)(1)(iii) is redesignated as paragraph (a)(4) and paragraph (a)(1)(iv) is redesignated as paragraph (a)(5) to continue renumbering of paragraphs in section 11.1105 for consistency with the format of the five-tiered approach to training in the STCW Code and corresponding paragraph numbering to improve readability for readers familiar with the STCW Code. | This editorial change would not impose any costs or cost savings.
11.1105(b), 11.1105(c), 11.1105(d), 11.1105(e) | Paragraph (a)(2) is redesignated as paragraph (b), redesignates paragraph (b) as paragraph (c), redesignates paragraph (c) as paragraph (d), and redesignates paragraph (d) as paragraph (e). All are revised to reference the appropriate paragraph detailing training or evidence of training. Paragraph (d) deletes “sea” and adds “relevant seagoing” for consistency. Paragraph (e) changes “vessels” to “ships” and adds “Convention” after “STCW” for greater consistency with the terminology used in this subpart. | This editorial change would not impose any costs or cost savings.
Proposed Revisions to 46 CFR Part 12
Part 12 | Revises the authorities listed for part 12 by adding additional sections from 46 U.S.C. 7303-7316 to more clearly cite the statutory authority provided by Congress, and updates the reference to DHS Delegation No. 00170.1, Revision No. 01.4, to reflect the most recent revision of this document. | This editorial change would not impose any costs or cost savings.
12.103(a) | Edits paragraph (a) to remove CG-MMC and NARA phone numbers, as well as update the NARA website URL and email. | This editorial change would not impose any costs or cost savings.
12.103(b) | Edits paragraph (b) introductory text to add IMO phone number, email, and website. | This editorial change would not impose any costs or cost savings.
12.103(b)(1) | Redesignates paragraph (b)(1) as paragraph (b)(2) and adds a new paragraph (b)(1) to incorporate by reference the STCW Convention, 2017 Edition. | This editorial change would not impose any costs or cost savings.
12.103(b)(2) | Amends redesignated paragraph (b)(2) to update the incorporation by reference of the STCW Code, 2017 Edition, and updates the sections and paragraphs in 46 CFR Part 12 affected by these amendments. | This editorial change would not impose any costs or cost savings.
12.603 | Amends footnotes 2 and 3 in Table 1 to § 12.3603(d) to add reference to the appropriate sections of the STCW Code. | This editorial change would not impose any costs or cost savings.
12.605, 12.609, 12.611 | Amends footnote 2 in Table 1 to § 12.3605(c), § 12.3609(c), and § 12.3611(c) to add reference to the appropriate sections of the STCW Code. | This editorial change would not impose any costs or cost savings.
12.901 | Revises the title of subpart I to better reflect the purpose of the subpart in accordance with the STCW Code. Changes the text “part” to “subpart” for consistency. | This editorial change would not impose any costs or cost savings.
12.905(a) | Moves text from paragraph (a)(1) into paragraph (a) introductory text. Replaces the word “vessel” with “ship” for consistency with terminology used in this subpart and revises the text to specify when and to whom the requirements apply. | This editorial change would not impose any costs or cost savings.
12.905(a)(1) | Amends paragraph (a)(1) to add a requirement for all personnel to complete passenger ship emergency familiarization. | This change would create new costs and benefits. 37 operating companies would incur initial-year costs of $390,941 (in undiscounted 2021 dollars) to achieve compliance with passenger ship emergency familiarization requirements. Affects 200 officers, 44 ratings, and 836 personnel serving on 50 U.S.-flagged passenger ships, with numbers declining in subsequent years due to ships exiting the industry. Benefits include enhanced passenger safety at sea in the case of an emergency which may prevent the loss of life, reduce the risk of injury, and increase protection of property in the marine environment. It also increases international harmonization of maritime regulation and allows the U.S. to maintain its status on the IMO's “White List”.
12.905(a)(2) | Redesignates paragraph (a)(2) as paragraph (b). Adds new paragraph (a)(2) to specify that personnel providing direct service to passengers in passenger spaces must complete passenger ship safety training specified in section A-V/2 paragraph 2 of the STCW Code. This was an existing requirement but is now being specified for greater clarity and consistency with the five-tiered approach to training in the STCW Code. | This editorial change would not impose any costs or cost savings.
12.905(a)(3) | Adds new paragraph (a)(3) to require ratings qualified under Chapters II, III, and VII of the STCW Convention and personnel designated on the muster list to assist passengers in emergency situations to complete crowd management training. | This change would create new costs and benefits. Ratings qualified under Chapters II, III, and VII of the STCW Convention would incur average annual costs of $21,185 (in undiscounted 2021 dollars). More specifically, we estimate ratings will incur $65,185 (in undiscounted 2021 dollars) in the first year to comply with crowd management training requirements and then incur an average of $16,296 (in undiscounted 2021 dollars) in annually recurring costs to train new ratings due to turnovers. Affects 44 specified ratings serving on 50 U.S.-flagged passenger ships in the first year of implementation, with decreasing numbers every year after. See table 3 for details on turnovers. Benefits include enhanced passenger safety at sea in the case of an emergency which may prevent the loss of life, reduce the risk of injury, and increase protection of property in the marine environment. It also increases international harmonization of maritime regulation and allows the U.S. to maintain its status on the IMO's “White List”. In addition, this ensures U.S. mariners meet international standards and maintain their ability to serve on foreign-flagged ships.
12.905(a)(4) | Adds new paragraph (a)(4) to specify that personnel designated on the muster list as having responsibility for the safety of passengers in emergency situations must complete training in crisis management and human behavior. This was an existing requirement but is now being specified for greater clarity and consistency with the five-tiered approach to training in the STCW Code. | This editorial change would not impose any costs or cost savings.
12.905(a)(5) | Adds new paragraph (a)(5) to specify that personnel assigned immediate responsibility for embarking and disembarking passengers, loading, discharging, or securing cargo, or closing hull openings onboard ro-ro passenger ships must complete training in passenger safety, cargo safety, and hull integrity. This was an existing requirement but is now being specified for greater clarity and consistency with the five-tiered approach to training in the STCW Code. | This editorial change would not impose any costs or cost savings.
12.905(b) | Redesignates paragraph (a)(2) as paragraph (b) and revises text of paragraph (b) to clarify that personnel must retain documentary evidence of training completion. This was an existing requirement but is now being specified for greater clarity and consistency with the STCW Code. | This editorial change would not impose any costs or cost savings.
12.905(c), 12.905(d), 12.905(e) | Redesignates paragraph (b) as paragraph (c), redesignates paragraph (c) as paragraph (d), redesignates paragraph (d) to paragraph (e), and revises text to reference the correct paragraphs outlining training requirements and evidence of training. Paragraph (d) is updated to remove “sea” and add “relevant seagoing” for consistency. | This editorial change would not impose any costs or cost savings.

Affected Population

This proposed rule would have two affected populations that would incur costs: (1) operating companies with U.S.-flagged passenger ships; and (2) ratings qualified under Chapters II, III, and VII of the STCW Convention serving on the same ships.

The Coast Guard analyzed data from the Marine Information for Safety and Law Enforcement (MISLE) database to determine the number of U.S.-flagged passenger ships that carry more than 12 passengers on international voyages and to determine the number of unique owners and operators.²³ We determined that there are 50 U.S.-flagged passenger ships owned by 37 operating companies that would incur the costs of providing passenger ship emergency familiarization to the officers, ratings, and personnel aboard their ships. Unlike most STCW Convention and STCW Code training requirements, it would be incumbent upon the owners and operators of these passenger ships to provide this training, since it is ship-specific and is given on board prior to assuming duties.

²³ The Coast Guard used MISLE to provide data on all active (inspected by definition) U.S.-flagged passenger vessels that carry over 12 passengers on international voyages as defined by their SOLAS certification and route type.

To determine the number of officers, ratings, and personnel impacted by the proposed passenger ship emergency familiarization requirements, as well as the number of ratings qualified under Chapters II, III, and VII of the STCW Convention who would be subject to the proposed crowd management training requirements, the Coast Guard used additional data from the MISLE database.²⁴ The Coast Guard reviewed the certificate of inspection for all 50 U.S.-flagged passenger ships in the affected ship population and reviewed the manning requirements for each ship.²⁵ Accordingly, we determined that 1,080 personnel [(100 officers + 22 specified ratings + 418 additional personnel) × 2 mariners per ship] would be subject to the proposed training requirements.²⁶ Specifically, the passenger ship emergency familiarization requirement would affect 1,080 personnel (200 officers + 44 specified ratings + 836 personnel), and the expanded applicability of crowd management training requirements would affect the 44 ratings. See table 3.

²⁴ MISLE was accessed on September 9, 2021.

²⁵ According to 46 U.S.C. Subtitle II, Part F: Manning of Vessels, manning requirements refer to requirements generally for the number of individuals required, qualifications and conditions of employment, and duties; for masters and other licenses and registered individuals; for pilots; for unlicensed personnel; for small vessels; for tank vessels; and for pilotage on the Great Lakes.

²⁶ For each passenger ship, we assume two individuals to serve in each billet, to account for the rotational nature of shipboard employment.

Table 3—Counts of Mariners in the Affected Population
| Number of officers | Number of specified ratings | Number of additional personnel | Total mariners
Crew 1 | 100 | 22 | 418 | 540
Crew 2 | 100 | 22 | 418 | 540
Total | 200 | 44 | 836 | 1,080

Additionally, we utilized historical ship population data from 2012 to 2021 to estimate growth rates within the industry, and subsequent changes to the ship and mariner population into the future. After examining the changes in ship population over time, the Coast Guard determined that the population of U.S.-flagged passenger ships is facing a gradual decline despite apparent growth in the foreign-flagged fleet. While linear growth rates are typically preferred, we determined that a linear decline that would eventually reach zero is an unrealistic picture of the changing dynamics of the ship population. Instead, a logarithmic decline that gradually levels off according to the formula for the trend line y = −10.93ln(x) + 70.614 more accurately portrays the industry because logarithmic functions are best used to project slow rates of decline, and trend towards a number without reaching zero. This rate of decline is reflected in Figure 1. However, for the purposes of this analysis, we estimate that the U.S.-flagged ship population will decrease by one ship each year, which is the closest whole number to the average annual change in population over the next 10 years of analysis. Therefore, we estimate that the continuous decrease in the affected mariner population is equivalent to the manning requirements of a ship exiting service each year.

Next, we reviewed the manning requirements for the 50 U.S.-flagged passenger ships to derive the average manning requirement and thereby estimate the decrease in mariners and personnel each year. The affected population of 50 U.S.-flagged passenger ships is comprised of 3 categories of ships: 3 passenger vessels of 100 or more gross tons (46 CFR Subchapter H), 9 small passenger vessels of less than 100 gross tons carrying more than 150 passengers or with overnight accommodations for more than 49 passengers (46 CFR Subchapter K), and 38 small passenger vessels of less than 100 gross tons (46 CFR Subchapter T). The average crew size for each of the categories of vessels and the entire population is displayed in Table 4.

Table 4—Average Counts of Mariners by Category of Passenger Vessel in the Affected Population
Vessel category | Average officers | Average ratings | Average additional personnel
Passenger Vessels of 100 or More Gross Tons | 8 | 7 | 40
Passenger Vessels Carrying More Than 150 Passengers or With Overnight Accommodations for More Than 49 Passengers | 3 | 0 | 20
Passenger Vessels of Less Than 100 Gross Tons | 1 | 0 | 3
Total (Across Entire Population) ²⁷ | 2 | 1 | 8

Based on this data, the Coast Guard estimates that the average ship in the population carries 11 mariners (2 officers, 1 specified rating, and 8 personnel) and operates with 2 crews that would be subject to the proposed requirements. The Coast Guard assumes that, as ships subject to the proposed requirements exit the fleet, mariners will have less opportunity to serve aboard these ships and leave the affected population. Because we do not know which category of vessel may exit the affected population in a given year, we elect to use the overall population average rather than the specific estimates for the subcategories of ships to account for mariner exit in the affected population. We believe that, since the majority of the affected population is made up of smaller ships (38 of the 50 affected ships), this overall average which tends toward a smaller ship is most representative. Therefore, we estimate that each exiting ship would result in 22 fewer personnel subject to the proposed training requirements (4 officers, 2 specified ratings, and 16 personnel across 2 crews). The Coast Guard requests comments on the accuracy of our assumptions related to ship and mariner exit.

²⁷ These totals are calculated from the full affected population of vessels. For example, 200 officers divided by 50 ships leads to an average of 2 officers per ship.

Mariner Turnover

In any given year, there will be turnover in the mariner population and some credentialed mariners will choose to exit the industry. The turnover rate is the number of mariners who leave the industry and will need to be replaced by mariners with an MMC. Because the Coast Guard does not issue passenger ship endorsements, we cannot estimate the turnover rate from existing data. Instead, the Coast Guard uses the turnover rate derived for the “Persons in Charge of Fuel Transfers” final rule (PIC rule), published on May 27, 2020 (85 FR 31677) as an approximation for the turnover rate for this rule.²⁸ In that rule, the Coast Guard estimated that, in any given year, 32.55 percent of the population that was eligible to renew a specific MMC endorsement would not do so.

²⁸ https://www.federalregister.gov/documents/2020/05/27/2020-11366/person-in-charge-of-fuel-transfers (last visited 3/15/2024).

The PIC rule utilized data from the National Maritime Center (NMC) for individuals obtaining MMCs with issue dates from April 2009 to March 2020 and expiration dates from August 2009 to March 2025. In the data from NMC, every MMC issued and every mariner has a unique identifying number such that sorting by mariner reference number shows all the MMCs for that mariner. We then cleaned the data and applied a formula that marks each MMC as either renewed, not renewed, or ineligible to renew. We marked any MMC with an expiration date after July 18, 2019 (when the data was downloaded) as ineligible to renew. Otherwise, we assumed an MMC is renewed if the issue date is within 2,190 days of the previous MMC's issue date. The period of 2,190 days is equivalent to 6 years (6 years × 365 days in a standard calendar year), which represents the validity period of 5 years plus a year-long grace period wherein a mariner cannot use the expiring MMC but could renew that MMC without having to retake the required formal training from the beginning. If there was no new MMC issued by March 2015, we assumed that the mariner left the marine industry or otherwise no longer requires an MMC (turned over) in 2015. We then tabulated how many MMCs in each calendar year were eligible to renew, how many of those eligible were renewed, and how many of those eligible were not renewed to produce a turnover percentage as discussed. The PIC rule utilized a 3-year average of turnover rates to arrive at the calculated turnover rate. This rate assumes that any mariner lost to turnover in a given year is replaced by a mariner with an original MMC, in order to maintain a stable population of mariners able to serve the total population of vessels. We believe this turnover rate is a good approximation for the turnover rate in our population, because the MMC endorsement in the PIC rule has similar requirements for qualification, including similar prerequisites such as Basic and Advanced Firefighting training. The Coast Guard requests comments on the accuracy of our assumption that the estimated PIC turnover rate is similar to the passenger ship turnover rate.

Therefore, in a similar manner, for this proposed rule, we assume that any mariner lost to annual turnover would be replaced by a mariner with the same credentials at this rate. This methodology ensures a stable population of mariners able to serve the total population of active ships. Because we propose, in part 12.905(d), that the standard of competence in crowd management can be maintained through evidence of 1 year of sea service within the last 5 years, employing this turnover rate allows us to capture the number of new ratings entering service who would require crowd management training. This turnover rate is applied only to ratings, because this group of mariners can be replaced by those who have a newly issued original MMC, as noted above, and will be required to complete this training.

Together, in subsequent years, we expect to see decreasing numbers of mariners seeking to meet the proposed requirements of this rule. Table 5 outlines the number of officers, ratings, and personnel we estimate would be required to complete passenger ship emergency familiarization and crowd management training over the next 10 years of analysis.

Table 5—Mariners Needing Passenger Ship Emergency Familiarization and Crowd Management Trainings Due to Turnover and Ship Population Decline
Year | Officers in population ²⁹ | Ratings in population ³⁰ | Personnel in population ³¹ | Number of personnel needing passenger ship emergency familiarization each year | Number of ratings seeking crowd management training due to turnovers ³²
| (a) | (b) | (c) | (d) = (a + b + c) | (e) = (b) × 32.55%
1 | 200 | 44 | 836 | 1,080 | 44
2 | 196 | 42 | 820 | 1,058 | 14
3 | 192 | 40 | 804 | 1,036 | 13
4 | 188 | 38 | 788 | 1,014 | 12
5 | 184 | 36 | 772 | 992 | 12
6 | 180 | 34 | 756 | 970 | 11
7 | 176 | 32 | 740 | 948 | 10
8 | 172 | 30 | 724 | 926 | 10
9 | 168 | 28 | 708 | 904 | 9
10 | 164 | 26 | 692 | 882 | 8

Columns (a), (b), and (c) describe the decrease in overall mariner population each year due to ships being retired from service, estimated at approximately one ship per year. Column (d) provides a running total of personnel who will be required to take passenger ship emergency familiarization each year before assuming shipboard duties. Finally, column (e) describes the total number of ratings who would seek crowd management training due to turnover within the mariner population. Since we assume that mariners are currently not in compliance with the Section A-V/2 of the STCW Code, the total is the full population of ratings in year 1, with only new ratings completing training due to turnover in subsequent years.

²⁹ Officers in population values are equal to the previous row value minus 4 (2 officers each across 2 crews) as a result of 1 vessel exiting the industry each year.

³⁰ Ratings in population values are equal to the previous row value minus 2 (1 ratings each across 2 crews) as a result of 1 vessel exiting the industry each year.

³¹ Personnel in population values are equal to the previous row value minus 16 (8 personnel each across 2 crews) as a result of 1 vessel exiting the industry each year.

³² Rounded to the nearest whole number. The first row in this column is an exception and should not be calculated with the provided (e) = (b) × 32.55% formula because all ratings would need to seek crowd management training in the first year of analysis.

Costs

The Coast Guard has considered the additional costs of the proposed rulemaking against the baseline. Specifically, we have considered whether there are compliance costs to operating companies and personnel aboard the ships, as well as enforcement costs to the Federal government associated with the proposed rulemaking.

First, the proposed rule would add passenger ship emergency familiarization requirements for officers, ratings, and personnel on passenger ships making international voyages. These costs would be incurred by operating companies in the ship population. Second, the proposed rule would expand the applicability of crowd management training by requiring ratings qualified under Chapters II, III, and VII of the STCW Convention to complete this training. Currently, only officers and personnel designated on the muster list to assist passengers in emergency situations are required to complete this training. The Coast Guard believes that there may be existing ratings qualified under Chapters II, III, and VII of the STCW Convention with duties on the muster list, which already requires them to complete crowd management training. However, for the purposes of our analysis, due to a lack of data, we assume that all qualified ratings in the affected population would need to complete crowd management for the first time as a result of this proposed rule. The Coast Guard requests comment on the validity of this assumption.

While these changes to training requirements would create new costs for operating companies and ratings qualified under Chapters II, III, and VII of the STCW Convention, the Coast Guard does not anticipate that this rulemaking would create added enforcement costs to the Federal government. We estimate that Coast Guard inspectors currently need 5-10 minutes to verify training documents during a PSC inspection, and that this proposal would not add to the time and resources expended under the current requirements.

Passenger Ship Emergency Familiarization and Crowd Management Trainings

The proposed rule would require officers, ratings, and personnel to complete the passenger ship emergency familiarization and expand the applicability of crowd management training to include ratings qualified under Chapters II, III, and VII of the STCW Convention. Discussions with subject matter experts (SMEs) from CG-MMC and personnel at local Coast Guard inspections offices reveal that we are currently unable to determine whether the U.S. passenger ship industry is in compliance with the training requirements of the STCW Convention because compliance is voluntary and not required to be recorded during an inspection. Therefore, for the purposes of this analysis, we assume that everyone in the affected population would need to comply with the proposed passenger ship emergency familiarization and crowd management training requirements. We request public comment as to the actual percentage of the affected population that is in compliance with the 2016 training requirements.

The following section estimates the initial first-year compliance costs and the future recurring compliance costs associated with the proposed rulemaking.

Cost of Passenger Ship Emergency Familiarization

Passenger ship emergency familiarization is conducted on board when personnel report for duty and would include topics to familiarize personnel with the general safety features aboard the ship, the location of essential safety equipment, including life-saving appliances, the importance of personal conduct during the implementation of emergency plans, and restrictions on the use of elevators during emergencies. Passenger ship emergency familiarization also includes the requirement to communicate with passengers during an emergency, including the ability to communicate in the working language of the ship, including non-verbally communicating safety information, and understanding one of the languages in which emergency announcements may be broadcast on the ship during an emergency or drill. Because this training is ship-specific and given before personnel are assigned to shipboard duties, we assume that operating companies incur the costs of these required trainings. Costs are based on the opportunity cost of time of personnel required to complete the training.

The Coast Guard assumes that a mariner serving at management level aboard the ship gives the familiarization training to crewmembers. According to 46 CFR 10.107, management level refers to the level of responsibility associated with (1) serving as master, chief mate, chief engineer officer or second engineer officer onboard a seagoing ship; and (2) ensuring that all functions within the designated area of responsibility are properly performed. We believe mariners at this level to be most qualified to provide this training, given that this training is meant to be specific to the ship on which the mariners serve. The Coast Guard requests comment on this assumption and whether another individual would be more likely to provide this training.

Based on input from SMEs and Coast Guard inspectors from local offices with oversight in the operating areas of the ships, the Coast Guard estimates that this training requires 4 hours per individual. In addition, we assume that it requires half this time, or 2 hours, for a management level officer to prepare to deliver the training. We make this assumption as they are responsible for shipboard management and familiar with the areas required to be included in the passenger ship emergency familiarization training. Given the relatively small size of the average ship in the affected population and the ship-specific knowledge of the management level officers on board, we assume that 2 hours would be sufficient development and preparation time for both initial and subsequent training offerings. The Coast Guard requests comment on the accuracy of our assumptions related to the time to prepare for and deliver passenger ship emergency familiarization training.

To compute the opportunity cost of time of the affected population to complete passenger ship emergency familiarization training, we use the U.S. Bureau of Labor Statistics' (BLS) Occupational Employment Statistics occupational series, “53-5021 Captains, Mates, and Pilots of Water Vessels,” under North American Industry Classification System (NAICS) 483100—Deep Sea, Coastal, and Great Lakes Water Transportation to estimate the hourly mean wage rate for officers, which is $46.02 in 2021 dollars.³³ Similarly, we use BLS occupational series, “53-5011 Sailors and Marine Oilers,” to estimate the mean wage rate for ratings, which is $28.07 in 2021 dollars.³⁴ Finally, we use “53-6061 Passenger Attendants” to estimate the mean wage rate for personnel, which is $24.26 in 2021 dollars.³⁵

³³ https://www.bls.gov/oes/2021/may/oes535021.htm (last visited 6/3/2024).

³⁴ https://www.bls.gov/oes/2021/may/oes535011.htm (last visited 6/3/2024).

³⁵ https://www.bls.gov/oes/2021/may/oes536061.htm (last visited 6/3/2024).

Next, we apply a load factor to these wage rates to determine the total compensation of officers, ratings, and personnel more accurately. We calculate a load factor of 1.48 (1.4756 rounded up) from the BLS's Employer Costs of Employee Compensation December 2021 release.³⁶ We then multiply the hourly wage rates by this load factor. Therefore, we find the loaded hourly wage rate of an officer is $68.11 ($46.02 × 1.48), the loaded hourly wage rate of a rating is $41.54 ($28.07 × 1.48), and the loaded hourly wage rate of personnel is $35.90 ($24.26 × 1.48).

³⁶ We obtained a total compensation estimate of $33.57 and the wages and salaries estimate of $22.75 for private industry workers for the transportation and material moving occupational group from Table 4 of the Employer Costs for Employee Compensation—December 2021 release at https://www.bls.gov/news.release/archives/ecec_03182022.pdf (last visited 6/3/2024). This allowed us to determine a load factor of 1.475 ($33.47/$22.75) that we could apply to the mean hourly wage rate to obtain an estimate for total compensation for an officer and rating.

Because all personnel must receive this training each time they report for duty, we assume that the training would be delivered to the entire population of personnel each year. In addition, we assume that this new training will be delivered at a quarterly frequency on average, in line with other trainings required for mariners serving on Subchapter T and K vessels according to CFR 46 185.420 and 122.420, respectively. This means that, in the first year, 200 officers, 44 specified ratings, and 836 personnel across 2 crews (assuming each crew serves 6 months on average) would need to take this training twice, for a total of 8 training hours per mariner. Additionally, 1 management level officer would need to prepare to deliver the training and document completion of the training for personnel aboard their ship twice for each crew, meaning 100 officers (1 officer delivering the training twice for each crew across 50 ships) would need to spend 4 hours preparing to deliver the training in the first year, 0.166 hours (10 minutes) of which would be used to document training completion. The Coast Guard requests comment on the accuracy of our assumptions surrounding the frequency of this training.

Therefore, in the first year of implementation, we estimate that operating companies would incur costs of $390,941 in undiscounted 2021 dollars, rounded. This is the sum of 200 officers taking the training twice for a total of 8 hours at a loaded wage rate of $68.11 (200 × 8 × $68.11 = $108,976), 44 specified ratings taking the training twice for a total of 8 hours at a loaded wage rate of $41.54 (44 × 8 × $41.54 = $14,622.08), 836 personnel taking the training twice for a total of 8 hours at a loaded wage rate of $35.90 (836 × 8 × $35.90 = $240,099.20), and 100 officers preparing to deliver and document completion of the training twice for a total of 4 hours at a loaded wage rate of $68.11 (100 × 4 × $68.11 = $27,244.

Costs to the population of operating companies would decrease over time as ships exit the industry at an estimated rate of one per year. The Coast Guard estimates that the average ship in the population carries 11 mariners (2 officers, 1 specified rating, and 8 personnel) and operates with 2 crews that would be subject to the proposed requirements. The Coast Guard assumes that, as ships subject to the proposed requirements exit the fleet, mariners serving on those ships would also exit the affected population and would no longer be subject to the proposed training requirements. Therefore, we estimate that each exiting ship would result in 22 fewer personnel subject to the proposed training requirements (4 officers, 2 specified ratings, and 16 personnel), and this is reflected in the calculations. Over the 10 years of analysis, we estimate that operating companies would incur average annual costs of $352,560 and total costs of $3,525,602, in undiscounted 2021 dollars. Table 6 describes the cost impacts of the passenger ship emergency familiarization requirements over the next 10 years of analysis.

Table 6—Undiscounted Costs of the Passenger Ship Emergency Familiarization Requirement Over 10 Years of Analysis
Year | Officers giving training | Officers taking training | Ratings taking training | Personnel taking training | Officer loaded wage | Rating loaded wage | Personnel loaded wage | Hours to take training | Hours to prepare and document training | Total cost
| (a) | (b) | (c) ³⁷ | (d) | (e) | (f) | (g) | (h) | (i) | (j) = [(a × e × i) + (b × e × h) + (c × f × h) + (d × g × h)
1 | 100 | 200 | 44 | 836 | $68.11 | $41.54 | $35.90 | 8 | 4 | $390,941
2 | 98 | 196 | 42 | 820 | 68.11 | 41.54 | 35.90 | 8 | 4 | 382,412
3 | 96 | 192 | 40 | 804 | 68.11 | 41.54 | 35.90 | 8 | 4 | 373,883
4 | 94 | 188 | 38 | 788 | 68.11 | 41.54 | 35.90 | 8 | 4 | 365,354
5 | 92 | 184 | 36 | 772 | 68.11 | 41.54 | 35.90 | 8 | 4 | 356,825
6 | 90 | 180 | 34 | 756 | 68.11 | 41.54 | 35.90 | 8 | 4 | 348,296
7 | 88 | 176 | 32 | 740 | 68.11 | 41.54 | 35.90 | 8 | 4 | 339,767
8 | 86 | 172 | 30 | 724 | 68.11 | 41.54 | 35.90 | 8 | 4 | 331,237
9 | 84 | 168 | 28 | 708 | 68.11 | 41.54 | 35.90 | 8 | 4 | 322,708
10 | 82 | 164 | 26 | 692 | 68.11 | 41.54 | 35.90 | 8 | 4 | 314,179
Average |  |  |  |  |  |  |  |  |  | 352,560
10-Year Total |  |  |  |  |  |  |  |  |  | 3,525,602
Note: Totals may not sum due to rounding.

Cost of the Crowd Management Trainings

³⁷ The 32.55 percent turnover rate for ratings discussed in the mariner turnover section is not reflected here because the emergency familiarization training will be given each year when reporting for duty. Except for those mariners leaving the population due to ships exiting the market, we assume that the number of ratings will be constant each year in order to fully meet the manning requirements of the ships remaining in the affected population.

The crowd management training requirement would apply to the 44 specified ratings across 2 crews in the affected mariner population for the first year of implementation. In subsequent years, only a fraction of the mariner population would need to seek crowd management training, due to a declining ship population and employee turnover.³⁸ The cost of attending a crowd management course includes tuition, travel expenses, opportunity cost of time, and meal and incidental expenses (M&IE), which would be incurred by the affected ratings qualified under Chapters II, III, and VII of the STCW Convention.

³⁸ See table 4 for more specifics on the numbers of ratings who would seek crowd management training over the next 10 years of analysis.

(a) Tuition and Opportunity Cost of Attendance

There are currently approximately 25 Coast Guard-approved training providers offering crowd management training. Because crowd management is an existing training requirement, we do not assume any new costs to training providers to develop crowd management courses and obtain Coast Guard approval of these courses. The websites of seven training centers provide detailed information on the length and tuition for the course. According to this data, the duration of a crowd management course ranges from 4 to 8 hours to complete, for an average of 5.17 hours. As a result, we estimate that ratings would take 1 day, on average, to complete the course. Tuition ranges from $90 to $400, for an average cost of $219. Table 7 provides an overview of the available crowd management courses with associated costs and hours, while table 8 describes the estimated undiscounted cost for an individual rating to take crowd management training.

³⁹ All websites accessed March 15, 2023.

⁴⁰ Not all training providers indicated the length of course time on their websites. Those not providing the length of their offered crowd management course are indicated with an N/A in the Hours column.

Table 7—Coast Guard Approved Training Centers Currently Offering Crowd Management Training Costs
Training center | Website ³⁹ | Cost | Hours ⁴⁰
Alaska Vocational Technical Center | https://avtec.edu/maritime/courses/crowd-management-alavtc-142/ | $90.00 | 4.0
Captain School USVI | http://www.captainschoolusvi.com/ | 250.00 | N/A
Chesapeake Marine Training Institute | https://www.chesapeakemarineinst.com/cmti-course/crowd-management/ | 200.00 | 4.0
Maritime Professional Training | https://www.mptusa.com/course-details/crowd-management-course-155 | 199.00 | 8.0
Maritime Institute | https://maritimeinstitute.com/course/crowd-management/ | 400 | 7.0
Quality Maritime Training, LLC | http://qualitymaritimetraining.com/courses/all-courses/crowd-management/ | 195.00 | 4.0
Resolve Maritime Academy | https://resolveacademy.com/course/crowd-management/ | 199.00 | 4.0
Average |  | 219 | 5.17

Table 8—Opportunity Cost of Time for Ratings To Complete a Crowd Management Course
Loaded wage rate | Hours | Total Opportunity cost of crowd management course
(a) | (b) | (c) = (a) × (b)
$41.54 | 8 | $332
Note: Totals may not sum due to rounding.

(b) Travel Distribution

To estimate the cost of travel and the opportunity cost of travel time, we assume varying modes of travel for mariners getting to and from approved training based on the distribution of travel modes, derived in table 16 of CG-MMC Policy Letter 01-21: Guidelines for Qualifying for STCW Endorsements for Basic and Advanced IGF Code Operations cost analysis.⁴¹ We reflect the same percentages in this NPRM as in the policy letter by assuming that 20 percent would drive to the training center and return the same day, 46 percent would drive and stay 2 nights, and 34 percent would fly and stay 2 nights.⁴² The percentages used in CG-MMC Policy Letter 01-21 derived from the distance required to travel to the nearest training provider for each mariner based on the ZIP Code associated with their credential and the ZIP Codes associated with the training provider locations. The policy letter utilized a random sample of 100 mariners with STCW endorsements involving the International Code of Safety for Ships Using Gases or Other Low Flashpoint Fuels (IGF Code) travelling to training centers offering relevant IGF Code training courses. In that analysis, we determined that 20 mariners would commute to the nearest training provider (or live less than 85.4 miles from a training provider), 46 would drive to the nearest training provider and lodge overnight (or live between 85.4 miles and 583.5 miles from a training provider), and 34 would fly to the nearest training provider and lodge overnight (or live greater than 583.5 miles from a training provider).

⁴¹ https://www.regulations.gov/document/USCG-2020-0181-0002. Similar methodology was also used in the Towing Vessel Firefighting Training Appendix A, published on October 3, 2023, (88 FR 67966), available at: https://www.regulations.gov/document/USCG-2020-0492-0013.

⁴² Id.

Because there is no specific endorsement for the population of mariners affected by this proposed rule (mariners serving on small passenger ships making international voyages), it is not possible to accurately replicate this methodology in this analysis. Due to this lack of data, we have determined to use the percentages as they appear in CG-MMC Policy Letter 01-21. We acknowledge that this creates uncertainty surrounding our cost estimates related to travel for this specific population of mariners. The Coast Guard requests public comment on our decision to use these predetermined rates of travel for this cost analysis.

We use the same methodology from CG-MMC Policy Letter 01-21 to estimate the thresholds and opportunity costs for travel among the affected population. Using updated data, the Coast Guard estimates that mariners who live or reside less than 93.9 miles from a training provider would commute to the closest site without lodging or utilizing overnight accommodations. We base this assumption on a report titled, “Commuting in America (2): The National Report on Commuting Patterns and Trends,” from the American Association of State Highway and Transportation Officials, which posits that Americans, on average, are willing to spend up to a maximum of 90 minutes commuting to work each way.⁴³ This report, which used data from the American Community Survey, illustrates that approximately 97.5 percent of American commuters spent 90 minutes (1.5 hours) or less commuting to work.⁴⁴ To convert 90 minutes into a distance, we calculate an average driving speed using data from the Department of Transportation (DOT's) National Highway Traffic Safety Administration's report, “National Traffic Speeds Survey III: 2015.” ⁴⁵ From this report, we take the mean speed from the three road classes across the five time periods provided. We obtain an average speed of 62.6 mph. We then multiply the average speed of these three road classes by 1.5 hours (90 minutes) to obtain our commuting distance threshold of 93.9 miles (62.6 mph × 1.5 hours).

⁴³ The American Association of State Highway and Transportation Officials conducted the report in 2013 and used Census Bureau data in the report. Please see Figure 11-13 on page 16 to obtain the travel distribution time to work in minutes. Readers can access the report at https://transportation.org/traveltrends/commuting-in-america/brief-13-11-commuting-departure-time-and-trip-time/. Last accessed March 12, 2024.

⁴⁴ The American Community Survey is an ongoing survey by the U.S. Census Bureau. It regularly gathers information pertaining to demographics and housing characteristics of U.S. households. More information on this survey can be found at: https://www.census.gov/programs-surveys/acs/about.html (last visited 6/3/2024).

For information on “mega-commuting” refer to footnote 29 or this brochure from the ACS: https://www.census.gov/content/dam/Census/library/working-papers/2013/demo/SEHSD-WP2013-03.pdf (last visited 6/3/2024).

⁴⁵ In order to convert this to distance, we take the mean total of table 12's Speed by Road Type and Time of Day estimates from 2015 to get at average road speed of 62.6 miles per hour. This information can be found in table 12 using the “Download Document” link for Publication No. DOT HS 812 485 (March 2018) at this website: https://rosap.ntl.bts.gov/view/dot/35961 (last visited 6/3/2024).

The next threshold we estimated is the distance at which a mariner would choose to drive to the training provider and lodge for the duration of the training before returning to their place of residence. To determine this distance, we establish a range by calculating the minimum and maximum distances for this threshold. The minimum distance at which mariners would drive and lodge during training must be equal to the threshold established by those mariners commuting: 93.9 miles (188 miles round trip).

The National Household Travel Survey estimates that 94.3 percent of Americans travel by personal vehicle when making round trips of less than 500 miles.⁴⁶ We use this distance of 500 miles as the lower bound of our maximum distance threshold. To estimate the upper bound of our maximum distance threshold, we reference data from the Office of Airline Information report, “Average Length of Haul, Domestic Freight and Passenger Modes (Miles),” which calculated the average domestic passenger flight length of 944 miles (1,888 miles round trip) in 2021.⁴⁷ We use this average domestic passenger flight statistic because it reflects a distance at which the average American prefers flying over other modes of transportation when traveling from one location to another.

⁴⁶ The BTS conducted the National Household Travel Survey in 2001, and it was last updated in May of 2017. Please see table 4, “Percent of Long-Distance Trips by Mode and Roundtrip Distance” to obtain the travel distance distribution of trips by miles and travel mode. Readers can access the table at: https://www.bts.gov/archive/publications/highlights_of_the_2001_national_household_travel_survey/table_04. The table was accessed on September 13, 2022.

⁴⁷ The Office of Airline Information at the BTS collects air freight and domestic passenger summary data. This office divides revenue passenger miles by revenue passenger enplanements to calculate the average length of passenger trips. To find the average length of a domestic flight, please see table 1-38, “Average Length of Haul, Domestic Freight and Passenger Modes (Miles)” and refer to cell AM:13. Readers can access the table at: https://www.bts.gov/content/average-length-haul-domestic-freight-and-passenger-modes-miles. The table was accessed on March 12, 2024.

Additionally, to validate the value of an 1,888 miles round trip, we reference the National Household Travel Survey data. A round-trip distance of 1,888 miles is close to the 2,000 plus miles round-trip distance category used by the National Household Travel Survey. For trips of over 2,000 miles round trip, 22.2 percent of Americans would travel by car and 74.8 percent would travel by flying. We then average our lower and upper bounds for the maximum distance threshold to obtain an average maximum distance of 1,194 miles [(500 miles + 1,888 miles) ÷ 2], or 597 miles one-way.

Therefore, the Coast Guard determines that, beyond 583.4 miles between a mariner's place of residence and the training provider they attended, mariners would choose to fly and lodge instead of drive and lodge. Table 9 displays the distance thresholds for all three choices of transportation.

Table 9—Modes of Travel and Travel Distance Thresholds
Travel choice | Travel distance (one-way) threshold for a mariner to reach their nearest training provider denoted by x
Commute | x < 93.9 miles.
Drive and Lodge | 93.9 miles ≤ x ≤ 597 miles.
Fly and Lodge | x > 597 miles.

(c) Opportunity Cost of Travel Time for Mariners

After determining the travel mode thresholds, the Coast Guard then determined the costs associated with each mode of travel. A mariner incurs an opportunity cost during the time they spend traveling to the closest training provider. To calculate these costs, we utilized the commuting distances and times calculated in CG-MMC Policy Letter 01-21. The policy letter calculated that the average commuter faces a 61.2-mile round trip, and those driving and lodging face approximately a 498.8-mile round trip.⁴⁸

⁴⁸ The calculations for average trip distances were obtained from page 31 of the CG-MMC Policy Letter 01-21: Guidelines for Qualifying for STCW Endorsements for Basic and Advanced IGF Code Operations cost analysis. See https://www.regulations.gov/document/USCG-2020-0181-0002 (last visited 6/3/2024).

Next, we calculated the wages associated with the opportunity cost of travel. To calculate these costs, we took the mean hourly loaded wage rate for a rating taking a crowd management course, $41.54, and multiplied it by the time required to travel to and from the closest training provider. For mariners commuting, it would take an average round-trip time of approximately 0.98 hours to commute to a training provider [the average round-trip distance divided by the average mean road class speed (61.2 miles round trip ÷ 62.6 mph)]. Similarly, we performed this calculation for those mariners driving and lodging to get an average round-trip time of about 7.97 hours (498.8 ÷ 62.6 mph). However, mariners driving and lodging would be traveling only half the round-trip distance, or 3.99 hours, twice (on the day of arrival and the day of departure). Lastly, the Coast Guard estimated that it would take mariners the equivalent of an entire workday (8 hours) to fly to a training provider and fly back to their place of residence. This estimate encompasses the time necessary to travel to and from the airport, to go through security, wait for boarding, time on the tarmac, time in-flight, and the time to go through baggage claim upon arrival.

For each travel mode, we multiplied the mean hourly loaded wage rate by the average commuting time, and the days traveling and the distribution of travel mode to arrive at the weighted opportunity cost of travel for a mariner. Table 10 displays the opportunity cost of time for each mode of transportation for an individual mariner.

Table 10—Weighted Average of Opportunity Cost of Time Used by Mode of Transportation per Mariner
Mode of travel | Commuting time per day (hours) | Days traveling | Loaded hourly wage for a deck officer | Percent of mariners who travel | Total opportunity cost (sum of columns)
| (a) | (b) | (c) | (d) | = (a) × (b) × (c) × (d)
Flying to Training Provider | 8 | 2 | $41.54 | 34.00 | $226
Driving to Training Provider and Lodging | 3.99 | 2 | 41.54 | 46.00 | 152
Commuting to Training Provider | 0.97 | 1 | 41.54 | 20.00 | 8
Average Total Opportunity Cost of Travel for a Mariner for Crowd Management Training |  |  |  |  | 387
Note: Totals may not sum due to rounding.

(d) Fuel Costs

If a mariner chooses to commute or chooses to drive and lodge for the duration of the training, they would incur the costs associated with the use of their own personal vehicle to travel to and from the training provider. The U.S. General Services Administration (GSA) sets the mileage reimbursement rate for federal employees who use their privately owned vehicle (POV) for official government travel and to present this information in a single standard mileage rate. The GSA also conducts reviews of travel costs on an annual basis to determine the mileage reimbursement rate by factoring in the costs of the following: the price of gasoline and oil, depreciation of the original vehicle cost, the costs of maintenance and insurance, and state and Federal taxes. The GSA approximates the POV mileage reimbursement rate to be $0.56 per mile in 2021.⁴⁹ To calculate the fuel costs for mariners commuting and not lodging, we multiplied this reimbursement rate by the number of days a mariner commutes by the average round-trip distance calculated for commuting, 61.2 miles. We used this same method when calculating the costs for mariners driving and lodging, with the difference being that they spend the equivalent of 1 day when completing their round-trip distance of 498.8 miles. Therefore, a mariner would incur a fuel cost of about $34.27 ($0.56 × 61.2 miles × 1 day) when commuting and $279.33 ($0.56 × 498.8 miles × 1 day) when driving to and lodging near a training provider.

⁴⁹ The GSA mileage rate data is available at https://www.gsa.gov/travel/plan-book/transportation-airfare-rates-pov-rates/privately-owned-vehicle-pov-rates/pov-mileage-rates-archived. We used the rate per mile rate of $0.56 for January 1, 2021.

A mariner traveling by air would need to pay for round-trip airfare and transport fare to and from the airport. Using data from the Bureau of Transportation Statistics (BTS), we estimate the average unadjusted round-trip airfare to be $307 in 2021.⁵⁰ To calculate the cost of transport, we refer to the costs of round-trip airport transfer in the 2006 interim rule, Validation of Merchant Mariners' Vital Information and Issuance of Coast Guard Merchant Mariner's Licenses and Certificates of Registry, published January 13, 2006 (71 FR 2154), or $50. We inflate this value using the 2021 4th Quarter and the 2006 4th Quarter Gross Domestic Product (GDP) implicit price deflator values of 112.848 and 84.770, respectively.⁵¹ After dividing the values, we obtain a factor of approximately 1.331. We multiply this value by $50 to obtain a transfer cost of approximately $66.55, in 2021 dollars. Table 11 presents the average fuel and transfer costs associated with ratings completing a crowd management course.

⁵⁰ To view the annual average price of a round-trip airfare for 2021 in unadjusted dollars, visit the link at: https://www.bts.dot.gov/newsroom/2021-annual-average-domestic-air-fares-remain-stable#:~:text=The%202021%20annual%20average%20domestic,collecting%20such%20records%20in%201995 (last visited 6/3/2024).

⁵¹ U.S. Bureau of Economic Analysis, Gross Domestic Product: Implicit Price Deflator [GDPDEF], retrieved from FRED, Federal Reserve Bank of St. Louis; https://fred.stlouisfed.org/series/GDPDEF, March 6, 2024.

Table 11—Weighted Average Fuel and Transfer Costs for a Rating Taking Crowd Management Course
Mode of travel | Fuel cost/ ticket cost | Transport fare to and from airport | Percent of mariners who travel | Average cost to mariner
| (a) | (b) | (c) | = [(a) + (b)] × (c)
Flying and lodging | $307.00 | $66.55 | 34 | $127
Driving and lodging | 279.33 | 0 | 46 | 128
Commuting | 34.27 | 0 | 20 | 7
Weighted Average Fuel Cost for a Mariner taking Crowd Management Training |  |  |  | 262
Note: Totals may not sum due to rounding.

(e) Meal and Incidental Expense (M&IE) Rates and Lodging Costs

Mariners incur M&IE during training and travel days, and mariners not commuting incur lodging expenses during training days. To estimate these costs, we utilize the GSA 2021 general travel per diem rates of $55 for a full day and $41.25 for first and last day, calculated at 75 percent of the full day rate.⁵² We also utilize the general lodging rates provided by GSA for 2021 and a calculated average lodging tax rate for 2021 from the 2021 HVS Lodging Tax Report—USA,⁵³ to arrive at average lodging costs of $102.09 per night.⁵⁴

⁵² GSA per diem rates can be found here: https://www.gsa.gov/about-us/newsroom/news-releases/fy2021-per-diem-rates-for-federal-travelers-released-08142020 (last visited 6/3/2024). See https://www.gsa.gov/travel/plan-and-book/per-diem-rates/faqs#15, reference FAQ #15, for information on calculating first and last travel day M&IE per diem.

⁵³ https://www.hvs.com/article/9160-2021-hvs-lodging-tax-report-usa (last visited 6/3/2024).

⁵⁴ The lodging cost includes lodging tax. According to the GSA, the standard lodging rate for 2021 was $96. See https://www.gsa.gov/about-us/newsroom/news-releases/fy2021-per-diem-rates-for-federal-travelers-released-08142020. The average lodging tax rate was 6.34%, which can be found here: https://www.hvs.com/article/9160-2021-hvs-lodging-tax-report-usa. These websites were accessed on September 13, 2022. Thus, lodging cost per night is estimated to be $102.09 [($96 per night × 6.34% = $6.09 tax) + $96].

We assume that those who choose to drive or fly would spend 2 nights (arrival and training day) in a hotel, which costs $102.09 per night, for a total of $204.18. Accordingly, personnel who commute to a training center would incur $41.25, while personnel who drive or fly would spend about $137.50 ((2 days × $41.25) + (1 day × $55)) on meals and incidentals. Table 12 presents the weighted average cost breakdown by mode of transportation.

Table 12—Weighted Average Mariners Incur M&IE and Lodging Costs (Undiscounted) for Ratings Taking Crowd Management Course
Mode of travel | Lodging costs | M&IE | Percent of mariners who travel | Total cost
| (a) | (b) | (c) | = [(a) + (b)] × (c)
Flying and lodging | $204.18 | $137.50 | 34.00 | $116.17
Driving and lodging | 204.18 | 137.50 | 46.00 | 157.17
Commuting | 0.00 | 41.25 | 20.00 | 8.25
Weighted Average MI&E and Lodging Costs |  |  |  | 282

(f) Documentation Costs

It is the responsibility of the operating companies who are obligated by STCW Convention Regulation I/14, “Responsibilities of Companies,” to ensure that documentation relevant to personnel training is maintained and readily accessible. According to the information collection request, Standards of Training, Certification and Watchkeeping for Seafarers (STCW), 1995, 1997 and 2010 Amendments to the International Convention (OMB Control Number 1625-0079), it currently takes a technical specialist 0.083 hours (5 minutes) to record that personnel serving on passenger vessels are trained as required by Regulation V/2 of the STCW Convention. Given that this proposed rule expands the applicability of the crowd management training to ratings qualified under Chapters II, III, and VII of the STCW Convention, and that other STCW Convention and STCW Code trainings are already required to be recorded, we assume this documentation would not create additional costs. The Coast Guard requests comment on the validity of this assumption.

(g) Total Cost to Mariners Taking Crowd Management Training

We estimate the total undiscounted annual costs for mariners required to take a crowd management course by adding the totals costs in tables 7, 8, 8, 9, and 10 and then multiplying by the affected population in table 5. We estimate the total undiscounted 10-year cost to be $211,850, and the undiscounted average cost to be $21,185 in 2021 dollars. Table 13 describes the total undiscounted costs for mariners taking a crowd management course over the next 10 years of analysis.

Table 13—Total Undiscounted Costs for Mariners Taking a Crowd Management Course
Year | Mariners required to take training course | Total opportunity cost of travel | Total fuel costs | Average MI&E & lodging costs | Opportunity cost of time of taking course | Tuition costs | Total costs
| (a) | (b) | (c) | (d) | (e) | (f) | = [a × (b + c + d + e + f)]
1 | 44 | $387 | $262 | $282 | $332 | $219 | $65,185
2 | 14 | 387 | 262 | 282 | 332 | 219 | 20,741
3 | 13 | 387 | 262 | 282 | 332 | 219 | 19,259
4 | 12 | 387 | 262 | 282 | 332 | 219 | 17,778
5 | 12 | 387 | 262 | 282 | 332 | 219 | 17,778
6 | 11 | 387 | 262 | 282 | 332 | 219 | 16,296
7 | 10 | 387 | 262 | 282 | 332 | 219 | 14,815
8 | 10 | 387 | 262 | 282 | 332 | 219 | 14,815
9 | 9 | 387 | 262 | 282 | 332 | 219 | 13,333
10 | 8 | 387 | 262 | 282 | 332 | 219 | 11,852
Average |  |  |  |  |  |  | 21,185
Average (Years 2-10) |  |  |  |  |  |  | 16,296
10-Year Total |  |  |  |  |  |  | 211,850
Note: Totals may not sum due to rounding.

Likewise, table 14 describes the total cost to industry (operating companies and ratings qualified under Chapters II, III, and VII of the STCW Convention) of the proposed rulemaking. Operating companies would incur the costs of the proposed passenger ship emergency familiarization, while the ratings who would be required to take the crowd management course under the proposed expanded applicability would incur those related costs. The Coast Guard estimates that the annualized total cost to industry over the next 10 years of analysis would be $375,707, in 2021 dollars, when discounted at 2 percent.

Table 14—Total Cost to Industry of the Proposed Rulemaking Over a 10-Year Period of Analysis
[2021 dollars]
Year | Passenger ship emergency familiarization costs | Crowd management training costs for ratings qualified under STCW chapters II, III, and VII | Total cost | Discounted (2%)
1 | $390,941 | $65,185 | $456,126 | $447,182
2 | 382,412 | 20,741 | 403,153 | 387,498
3 | 373,883 | 19,259 | 393,142 | 370,467
4 | 365,354 | 17,778 | 383,132 | 353,954
5 | 356,825 | 17,778 | 374,602 | 339,289
6 | 348,296 | 16,296 | 364,592 | 323,747
7 | 339,767 | 14,815 | 354,581 | 308,684
8 | 331,237 | 14,815 | 346,052 | 295,352
9 | 322,708 | 13,333 | 336,042 | 281,185
10 | 314,179 | 11,852 | 326,031 | 267,459
Total |  |  | 3,737,452 | 3,374,817
Annualized |  |  |  | $375,707
Note: Totals may not sum due to rounding.

Standards Incorporated by Reference (IBR)-Related Changes

Proposed IBR-related changes refer to the sections in 46 CFR parts 11 and 12 that would be revised to incorporate the 2017 Edition of the STCW Convention and the STCW Code. See Section V, Discussion of Proposed Rule, in this preamble. In themselves, the IBR-related changes do not impose any cost on the regulated industry. Table 2 describes each IBR-related change in the proposed rule and provides explanations for the no-cost determinations.

Costs to Government

Coast Guard inspectors are currently requesting mariner credentials and training records related to the STCW Convention and the STCW Code, but they are not tracking compliance with the requirements outlined in this proposed rule since compliance is currently voluntary. We estimate that verifying the training documents currently would require 5-10 minutes per vessel. We do not anticipate this rulemaking to add to the time and resources currently necessary to verify training certificates as part of an inspection. Accordingly, the proposed rulemaking has no new costs to the Government.

Benefits

The Coast Guard anticipates that the proposed rule would improve the safety of life at sea in the case of an emergency by ensuring that ship personnel are familiar with safety features, emergency equipment and procedures, basic communication, and crowd management techniques. This is important so that the ship's personnel would be able to assist passengers, including elderly and disabled individuals, during an emergency. The consequences of the loss of a ship from the affected population are potentially catastrophic.

While there are no examples of major accidents in the affected population of U.S.-flagged ships, the Costa Concordia disaster in the foreign fleet provides some insight into the how costly improper emergency management can be. On January 13, 2012, the Costa Concordia, an Italian passenger ship operating in the Mediterranean Sea with 3,206 passengers and 1,023 crewmembers on board, struck a reef off the Italian coastline. The incident resulted in the loss of 32 lives (27 passengers and 5 crewmembers), injury to 157 others, and the total loss of the ship. In the ensuing accident report,⁵⁵ the Italian Ministry of Infrastructures and Transports concluded that multiple factors contributed to the injuries and loss of life. Some of these factors included delayed management of the emergency response and evacuation process, inconsistencies in assignment of duties, communication issues due to the different backgrounds of passengers and crewmembers, and passenger confusion over which personnel employed on passenger vessels were trained to assist in an emergency.⁵⁶ While other factors certainly contributed to the loss of life and injury in this maritime disaster, it is evident that clearly communicated emergency procedures and experience with crowd management could have aided both crew and passengers in responding to the emergency occurring onboard their ship. Both U.S.-flagged ships and ships in the foreign-flagged fleet (where U.S. passengers disproportionately travel) can expose passengers and crew to greater risk of loss of life and injury.

⁵⁵ See footnote 8.

⁵⁶ Ibid at 159.

While we have not conducted a risk analysis on the U.S.-flagged ship population related to the training provisions in this proposed rule due to a lack of data, we can estimate the costs associated with loss of life and ship in the population. We utilized data from the National Vessel Documentation Center to estimate $809,500 as the median price of a U.S.-flagged passenger ship.⁵⁷ In addition, we reviewed the manning requirements for all 50 ships in the ship population to derive the average manning requirement and maximum number of passengers. Based on this data, we estimate that the average ship in the population can carry 11 mariners (2 officers, 1 specified rating, and 8 personnel) and 120 total passengers at one time. In order to estimate the benefit of preventing a fatality, we utilize the Value of a Statistical Life (VSL) estimate of $11.8 million for analyses, using a base year of 2021.⁵⁸ The VSL is defined as the additional cost that individuals would be willing to bear for improvements in safety (that is, reductions in risks) that, in the aggregate, reduce the expected number of fatalities by one. This conventional terminology has often provoked misunderstanding on the part of both the public and decisionmakers. What is involved is not the valuation of life, as such, but the valuation of reductions in risks. For example, a VSL of $11.8 million does not mean that a specific human life is worth $11.8 million but is, instead, meant to measure the willingness to pay for reductions in only small risks of premature death (say, $118 for a risk of 1 in 100,000). This approach to valuation of mortality risks is endorsed by OMB Circular A-4, which provides guidance to Federal agencies on the development of regulatory analysis.⁵⁹

⁵⁷ The median price is utilized here due to significant outliers on the upper bound of vessel valuations. The mean price is weighted upward by the inclusion of 4 large ships with valuations of $500,000,000, which is atypical for the relatively small size ships in the population.

⁵⁸ For more information on the VSL, see the DOT guidance located at https://www.transportation.gov/office-policy/transportation-policy/revised-departmental-guidance-on-valuation-of-a-statistical-life-in-economic-analysis (last visited 3/12/2024).

⁵⁹ https://www.whitehouse.gov/wp-content/uploads/2023/11/CircularA-4.pdf.

In the event of a total loss of ship and life due to lack of emergency training and procedure, we estimate losses totaling $809,500 from loss of ships and $1.5 billion from loss of life,⁶⁰ per ship lost.

⁶⁰ Loss of life is calculated as $1,545,800,000 [($11.8 million × 131 people (11 crew members and 120 passengers)], rounded.

Beyond the costs associated with a catastrophic loss, it should be noted that the United States is required to implement amendments to the STCW Convention and the STCW Code through national regulations. Failure to meet our treaty obligation to fully implement the STCW Convention could cause the United States to lose its status on the IMO White List. The White List distinguishes administrations that are in full compliance with the STCW Convention and the STCW Code. Loss of this status could cause U.S. ships to be subject to more rigorous PSC inspections in foreign ports, including possible detainment or denial of entry, resulting in potential revenue losses. Additionally, U.S. mariners could be ineligible to serve on foreign-flagged passenger ships. Hence, by aligning national regulations with the STCW Convention and the STCW Code, the proposed rule would ensure that owners and operators of U.S.-flagged ships, as well as U.S. mariners, are able to operate in international markets.

Further, there is an additional benefit in the promotion of international harmonization and reciprocity of maritime regulation. This proposed rule advances Executive Order 13609, “Promoting International Cooperation,” which targets international regulatory cooperation to reduce, eliminate, or prevent unnecessary differences in regulatory requirements. By promoting harmonization of international maritime safety regulations, the United States ensures that our ships comply with international standards and meet the regulations of foreign countries while our ships are in their waters, while also promoting higher baseline safety standards for foreign-flagged ships that often carry U.S. passengers.

Alternatives Considered

As a party to the STCW Convention, the United States is obligated to implement all amendments into domestic law. The United States proposed and supported these amendments, recognizing the enhanced safety measure as desirable.

This proposed rule would codify the STCW Convention and the STCW Code, including amendments through 2016. As a signatory to the STCW Convention, the United States must ensure compliance with its treaty obligations through full implementation of amendments to the STCW Convention and the STCW Code. The STCW Convention is not self-implementing; therefore, the Coast Guard does not have discretion and must issue regulations to implement these requirements. Failure to meet the treaty obligations could cause the United States to lose status on the IMO's “White List,” which distinguishes administrations that are in full compliance with the STCW Convention and the STCW Code. Because the Coast Guard must implement the training requirements outlined in the 2016 amendments and does not propose to implement any discretionary requirements as a part of this proposed rule, we have not examined any alternatives to the proposed rule.

B. Small Entities

Under the Regulatory Flexibility Act (RFA), 5 U.S.C. 601-612, we have considered the impact of this proposed rule on small entities. The term “small entities” comprises small businesses, not-for-profit organizations that are independently owned and operated and are not dominant in their fields, and governmental jurisdictions with populations of less than 50,000.

An Initial Regulatory Flexibility Analysis discussing the impact of this proposed rule on small entities addresses the following as required under section 603(b) of the RFA:

(1) A description of the reasons why action by the agency is being considered;

(2) A succinct statement of the objectives of, and legal basis for, the proposed rule;

(3) A description of and, where feasible, an estimate of the number of small entities to which the proposed rule will apply;

(4) A description of the projected reporting, recordkeeping, and other compliance requirements of the proposed rule, including an estimate of the classes of small entities that will be subject to the requirement and the type of professional skills necessary for preparation of the report or record;

(5) An identification, to the extent practicable, of all relevant Federal rules that may duplicate, overlap, or conflict with the proposed rule; and

(6) A description of any significant alternatives to the proposed rule that accomplish the stated objectives of applicable statutes and that minimize any significant economic impact of the rule on small entities.

1. A description of the reasons why action by the agency is being considered.

The growth of foreign flagged passenger ships as a vacation destination has resulted in the launching of consistently larger ships and subsequent concerns over passenger safety. Passenger ship travel requires passengers to feel assured of their safety, regardless of where the ship originates or hails. Typically, passengers are only on board these ships for a short time, and seldom have maritime experience, so they rely on the ship's crew to assist them in emergency situations. In emergency situations, it may be impossible for passengers to identify which crewmembers are trained to assist them in an emergency. Such situations pose risks to life, health, and safety, as well as damage to property and the marine environment.

The IMO has worked to address these risks, leading to amendments in 2016 to the STCW Convention and the STCW Code to ensure that passenger ship personnel are familiar with the safety features, emergency equipment and procedures, basic communication, and crowd management techniques in order to assist passengers, including elderly and disabled individuals, during an emergency.

The United States is a signatory to the STCW Convention and must ensure compliance with its treaty obligations through full implementation of the STCW Convention and the STCW Code. The STCW Convention is not self-implementing. The Coast Guard must issue regulations to implement these requirements. The Coast Guard issued CG-MMC Policy Letter 02-21 to advise owners and operators of U.S. passenger ship operating companies of the requirements of the STCW Convention and the STCW Code. However, if the Coast Guard does not issue regulations to implement these requirements, they are not enforceable, and there is a risk that U.S. ships could be denied entry to or detained in foreign ports, that U.S. mariners could be ineligible to serve on foreign-flagged ships, and that operating companies, personnel, and, we believe, the passengers would be at higher risk for loss of ship, serious injury, or loss of life as the result of an emergency for which mariners and personnel were unprepared.

2. A succinct statement of the objective of, and legal basis for, the proposed rule.

The legal basis of this proposed rule is title 14 U.S.C. 102(3), which grants the Coast Guard broad authority to promulgate and enforce regulations for the promotion of safety of life and property on waters subject to the jurisdiction of the United States. More specifically, 46 U.S.C. 7101 authorizes the Secretary of DHS to prescribe the requirements for credentialing, and 46 U.S.C. 7306 and 7313 authorize the prescription of requirements for ratings. The Secretary of DHS has delegated these statutory authorities to the Coast Guard through DHS Delegation No. 00170.1(II)(92)(e), Revision No. 01.4, which generally authorizes the Coast Guard to determine and establish the experience and professional qualifications required for the issuance of credentials.

3. A description of and, where feasible, an estimate of the number of small entities to which the proposed rule will apply.

As described in section VII A, Regulatory Planning and Review, in this document, there would be two affected populations of the proposed rule: (1) operating companies that would incur the costs of the proposed required passenger ship emergency familiarization, and (2) ratings qualified under Chapters II, III, and VII of the STCW Convention who would need to complete a crowd management course. Ratings qualified under Chapters II, III, and VII of the STCW Convention are individuals and not entities; as such, the second affected population does not contain any small entities. We focus the attention of this analysis on the operating companies of U.S.-flagged passenger ships.

Of the 50 ships in the affected ship population, there are 37 operating companies. Of these 37 operating companies:

• 2 are governmental jurisdictions with populations over 50,000, neither of which is classified as a small entity;

• 1 is a non-profit organization, and is classified as a small entity;

• 34 are private companies, of which 2 are not classified as small businesses, 20 are classified as small businesses, and 13 could not be classified because information could not be found on those 13 businesses. For the purpose of this analysis, we classify those 13 businesses, where information could not be found, as small entities.

We researched the number of employees and revenue of these companies using proprietary and public business databases. Then we measured company size data using the SBA business size standards to assess how many companies in this industry may be small entities. The SBA provides business size standards for all sectors of the North American Industry Classification System (NAICS).⁶¹ Our analysis of the available company information revealed 10 primary NAICS codes. Table 15 displays the NAICS codes of the small businesses found in our sample.

⁶¹ https://www.sba.gov/sites/default/files/2023-06/Table%20of%20Size%20Standards_Effective%20March%2017%2C%202023%20%282%29.pdf (last visited 6/3/2024).

Table 15—NAICS Codes of Identified Small Businesses
Title | NAICS code | Count of small businesses | SBA size standard type | SBA size threshold
Scenic and Sightseeing Transportation, Water | 48721005 | 6 | Revenue | $14,000,000
Inland Water Passenger Transportation | 48321201 | 4 | Employee | 550
All Other Amusement and Recreation Industries | 71399021 | 3 | Revenue | $9,000,000
Tour Operators | 56152007 | 2 | Revenue | $25,000,000
Site Preparation Contractors | 23891061 | 1 | Revenue | $19,000,000
New Single-family Housing Construction (Except For-Sale Builders) | 23611505 | 1 | Revenue | $45,000,000
Hotels (except Casino Hotels) and Motels | 721110 | 1 | Revenue | $40,000,000
Boat Dealers | 44122215 | 1 | Revenue | $40,000,000
All Other Transit and Ground Passenger Transportation | 48599906 | 1 | Revenue | $19,000,000

Revenue Impacts of the Proposed Rule. To determine the impacts of the proposed rule on small operating companies, we used information on revenue or employee size as available on business directory websites.

As discussed in the “Cost to Industry” section of the regulatory analysis, we estimate that there is a population of 50 ships that would be subject to this rule in the first year of implementation, with an estimated population decline of 1 ship per year in subsequent years. There are 37 unique owners and operators of the affected ships employing 1,080 officers, ratings, and personnel subject to the proposed passenger ship emergency familiarization requirements, 33 of which are considered small entities. The Coast Guard was able to find revenue data on 20 of those 33 small entities, allowing us to analyze estimated impacts.

We estimate that 4 hours is the time needed for officers, ratings, and personnel to complete the proposed passenger ship emergency familiarization. In addition, a management level officer would need approximately 2 hours to prepare to deliver the passenger ship emergency familiarization aboard each ship for each crew. We assume there are 2 crews per vessel to account for the rotational nature of shipboard employment, and that each crew (serving an average of 6 months on board each ship) will take the training twice per year in line with other quarterly training requirements as outlined in 46 CFR 185.420 and § 122.420. Thus, we multiply the estimated training and training preparation hours by 2 to capture the quarterly frequency of training per year. The loaded hourly wage rate of officers, ratings, and personnel are $68.11, $41.54, and $35.90 respectively.

Because all officers, ratings, and additional personnel are required to participate in emergency familiarization training, the Coast Guard needed to determine the number of officers, ratings, and personnel impacted by the proposed passenger ship emergency familiarization requirements. To determine this, we reviewed the certificate of inspection for all 27 U.S.-flagged passenger ships in the affected ship population owned by entities with available revenue data and reviewed the manning requirements for each ship. We then added the total officers, ratings, and additional personnel for each ship owned by each entity and multiplied by 2 to account for both crews on each ship. After determining the total affected personnel for each entity, we then calculate undiscounted first-year costs (in 2021 dollars) for each impacted small entity in the affected population with known revenue data[(number of officers delivering training × 4 preparation hours × $68.11 hourly wage) + (number of officers × 8 training hours × $68.11 hourly wage) + (number of specified ratings × 8 training hours × $41.54 hourly wage) + (number of additional personnel × 8 training hours × $35.90 hourly wage)]. We then divide the calculated first-year cost by the small entity's revenue to find the level of impact on the affected small entity. For example, for owner or operator “A” in column 1, we estimate undiscounted first-year costs of $13,490.40 [(8 officers × $68.11 officer wage × 8 training hours) + (0 ratings × $41.54 rating wage × 8 training hours) + (28 additional personnel × $35.90 personnel wage × 8 training hours) + (4 officers delivering training × $68.11 officer wage × 4 training preparation hours)]. We then find the estimated level of impact on owner or operator “A” of 0.76 percent by dividing the calculated first-year cost by its revenue obtained from public business databases ($13,490.40 ÷ $891,000 = 1.56%). See Table 16 for the calculations of first-year costs and impacts on small entities in the affected population.

Table 16—Estimated First-Year Impact of the Emergency Familiarization Training for Affected Small Entities With Known Revenue Data
Owner or operator ⁶² | Number of ships | Officers | Ratings | Additional personnel | Officers delivering training (2 per ship) | Officer wage | Rating wage | Additional personnel wage | Training hours | Training preparation hours | Total cost | Owner or operator revenue | Percent impact
A | 2 | 8 | 0 | 28 | 4 | $68.11 | $41.54 | $35.90 | 8 | 4 | $13,490.40 | $891,000.00 | 1.51
B | 3 | 8 | 0 | 14 | 6 | 68.11 | 41.54 | 35.90 | 8 | 4 | 10,014.48 | 2,184,000.00 | 0.46
C | 1 | 2 | 0 | 10 | 2 | 68.11 | 41.54 | 35.90 | 8 | 4 | 4,506.64 | 1,313,000.00 | 0.34
D | 1 | 2 | 0 | 10 | 2 | 68.11 | 41.54 | 35.90 | 8 | 4 | 4,506.64 | 8,000,000.00 | 0.06
E | 3 | 6 | 0 | 12 | 6 | 68.11 | 41.54 | 35.90 | 8 | 4 | 8,350.32 | 15,400,000.00 | 0.05
F | 1 | 4 | 0 | 4 | 2 | 68.11 | 41.54 | 35.90 | 8 | 4 | 3,873.20 | 534,000.00 | 0.73
G | 1 | 4 | 0 | 4 | 2 | 68.11 | 41.54 | 35.90 | 8 | 4 | 3,873.20 | 31,124,000.00 | 0.01
H | 1 | 4 | 0 | 8 | 2 | 68.11 | 41.54 | 35.90 | 8 | 4 | 5,022.00 | 744,000.00 | 0.68
I | 1 | 4 | 0 | 8 | 2 | 68.11 | 41.54 | 35.90 | 8 | 4 | 5,022.00 | 298,000.00 | 1.69
J | 3 | 6 | 0 | 8 | 6 | 68.11 | 41.54 | 35.90 | 8 | 4 | 7,201.52 | 2,184,000.00 | 0.33
K | 1 | 2 | 0 | 8 | 2 | 68.11 | 41.54 | 35.90 | 8 | 4 | 3,932.24 | 19,481,000.00 | 0.02
L | 1 | 2 | 0 | 4 | 2 | 68.11 | 41.54 | 35.90 | 8 | 4 | 2,783.44 | 1,649,000.00 | 0.17
M | 1 | 4 | 0 | 12 | 2 | 68.11 | 41.54 | 35.90 | 8 | 4 | 6,170.80 | 149,000.00 | 4.14
N | 1 | 4 | 0 | 10 | 2 | 68.11 | 41.54 | 35.90 | 8 | 4 | 5,596.40 | 149,000.00 | 3.76
O | 1 | 4 | 0 | 10 | 2 | 68.11 | 41.54 | 35.90 | 8 | 4 | 5,596.40 | 337,000.00 | 1.66
P | 1 | 4 | 0 | 12 | 2 | 68.11 | 41.54 | 35.90 | 8 | 4 | 6,170.80 | 149,000.00 | 4.14
Q | 1 | 4 | 0 | 12 | 2 | 68.11 | 41.54 | 35.90 | 8 | 4 | 6,170.80 | 236,343,000.00 | 0.00
R | 1 | 4 | 0 | 10 | 2 | 68.11 | 41.54 | 35.90 | 8 | 4 | 5,596.40 | 649,000.00 | 0.86
S | 1 | 2 | 0 | 2 | 2 | 68.11 | 41.54 | 35.90 | 8 | 4 | 2,209.04 | 2,400,000.00 | 0.09
T | 1 | 4 | 0 | 6 | 2 | 68.11 | 41.54 | 35.90 | 8 | 4 | 4,447.60 | 149,000.00 | 2.98

For this proposed rule, the Coast Guard considers an impact of greater than 1 percent (.01) of a small entity's annual revenue to be a significant impact. Table 17 shows the distribution of revenue impacts on the small entities affected by this proposed rule. In addition to the less than 1 percent threshold, which indicates no significant impact, we also include the 1-to-3 percent threshold indicating significant impact, and a greater than 3 percent threshold showing even greater impacts on affected small entities. The Coast Guard estimates that 7 small entities, or 35 percent of the population with known revenue, would incur significant impacts, with 3 of those small entities incurring impacts greater than 3 percent of their annual revenue.

⁶² Small entity names have been removed to protect personal identifiable information.

Table 17—Distribution of Revenue Impacts
Percent of revenue impact | Small entities with known revenue | Portion of small entities with known revenue (%)
<1 | 13 | 65
1-3 | 4 | 20
>3 | 3 | 15

4. A description of the projected reporting, recordkeeping, and other compliance requirements of the proposed rule, including an estimate of the classes of small entities which will be subject to the requirements and the type of professional skills necessary for preparation of the report or record.

This proposed rule would call for a revised collection of information under the Paperwork Reduction Act of 1995, 44 U.S.C. 3501-3520. This proposed rule would revise the current information collection, Standards of Training, Certification and Watchkeeping for Seafarers (STCW), 1995, 1997 and 2010 Amendments to the International Convention, OMB Control Number: 1625-0079.

Under the existing OMB Control Number 1625-0079, the Coast Guard collects information from owners and operators of U.S.-flagged passenger ships, and ratings and officers serving on these ships, as well as from training centers. The proposed rule would add additional collection of information requirements to this existing collection of information in order to implement the STCW Convention and the STCW Code. These additional collection of information requirements would: (1) require the operating companies of U.S.-flagged passenger ships that carry 12 passengers or more on international voyages to provide documentary evidence that all personnel serving on these ships have completed a passenger ship emergency familiarization, and (2) require documentary evidence that required personnel have completed crowd management training for ratings serving on U.S.-flagged passenger ships that carry 12 passengers or more on international voyages.

The additional collection of information in the proposed rule would ensure that mariners have completed training necessary to comply with the STCW Convention and the STCW Code and adequately assist passengers in the event of an emergency. The additional collection of information is also needed to demonstrate to the IMO that the United States, as a signatory to the STCW Convention, has met the obligation to implement requirements through national regulations.

The additional collection of information in this proposed rule would affect an estimated 33 small entities. These entities are owners and operators of ships carrying 12 or more passengers on international voyages who employ officers, ratings, and personnel required to complete passenger ship emergency familiarization.

According to the current collection of information, a management level officer spends about 5 minutes to document evidence of personnel training on behalf of operating companies. Accordingly, we estimate that the passenger ship emergency familiarization requirement of the proposed rule would increase the burden hour of the existing collection of information by 8.3 hours (50 ships × 0.166 hours per response × 2 crews = 16.6 hours).

In addition to the recordkeeping requirements of the proposed rule, there are also new training requirements. First, the proposed rule would expand the applicability of crowd management training by requiring ratings qualified under Chapters II, III, and VII of the STCW Convention to complete this training. Currently, only officers and personnel designated on the muster list to assist passengers in emergency situations are required to complete this training.

Second, the proposed rule creates a new requirement for all personnel to complete passenger ship emergency familiarization appropriate to their capacity, duties, and responsibilities during an emergency. Personnel would have to complete the familiarization before being assigned to shipboard duties. The passenger ship emergency familiarization requirement would apply to all personnel, including masters, officers, and ratings qualified under Chapters II, III, and VII of the STCW Convention. This familiarization would not require Coast Guard approval in accordance with 46 CFR part 10, subpart D, and could be conducted on board the ship or at a shore-based location. Mariners or ship operators should maintain documentation verifying that personnel have completed the passenger ship emergency familiarization. This training includes topics to familiarize personnel with the general safety features aboard the ship, the location of essential safety equipment, including life-saving appliances, the importance of personal conduct during the implementation of emergency plans, and restrictions on the use of elevators during emergencies. Passenger ship emergency familiarization also includes the requirement to communicate with passengers during an emergency, including the ability to communicate in the working language of the ship, including non-verbally communicating safety information, and understanding one of the languages in which emergency announcements may be broadcast on the ship during an emergency or drill.

5. An identification, to the extent practicable, of all relevant Federal rules which may duplicate, overlap, or conflict with the proposed rule.

There are no relevant Federal rules that may duplicate, overlap, or conflict with this proposed rule.

6. A description of any significant alternatives to the proposed rule which accomplish the stated objectives of applicable statutes, and which minimize any significant economic impact of the rule on small entities.

As a party to the STCW Convention, the United States is obligated to implement all amendments into domestic law. The United States proposed and supported these amendments, recognizing the enhanced safety measure as desirable.

This proposed rule would codify the 2017 edition of the STCW Convention and the STCW Code. As a signatory to the STCW Convention, the United States must ensure compliance with its treaty obligations through full implementation of amendments to the STCW Convention and the STCW Code. The STCW Convention is not self-implementing; therefore, the Coast Guard does not have discretion and must issue regulations to implement these requirements. Failure to meet the treaty obligations could cause the United States to lose status on the IMO's “White List,” which distinguishes administrations that are in full compliance with the STCW Convention and the STCW Code. Because the Coast Guard must implement the training requirements outlined in the 2016 amendments and does not propose to implement any discretionary requirements as a part of this proposed rule, we have not examined any alternatives to the proposed rule.

7. Conclusion.

We are interested in the potential impacts from this proposed rule on small entities and we request public comment on these potential impacts. If you think that this proposed rule will have a significant economic impact on you, your business, or your organization, please submit a comment to the docket at the address under ADDRESSES in the interim rule. In your comment, explain why, how, and to what degree you think this proposed rule will have an economic impact on you.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a revised collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

Title: Standards of Training, Certification and Watchkeeping for Seafarers (STCW), 1995, 1997 and 2010 Amendments to the International Convention.

OMB Control Number: 1625-0079.

Summary of the Collection of Information: The STCW Convention establishes minimum standards of training, certification and watchkeeping for seafarers. The United States is a signatory to the STCW convention, which defines standards of competence necessary to ensure safety of life at sea and the marine environment and addresses the responsibilities of signatories to ensure seafarers meet standards of competence. The information collection requirements are necessary to implement the STCW Convention.

Under the existing information collection, OMB Control Number 1625-0079, the Coast Guard collects information from owners and operators of U.S.-flagged passenger ships, and ratings and officers serving on these ships, as well as training centers. The proposed rule would add additional requirements to the existing collection of information in order to implement the passenger ship training requirements of the STCW Convention. These additional collection of information requirements would: (1) require the owners and operators of U.S.-flagged passenger ships that carry 12 passengers or more on international voyages to provide documentary evidence that officers, ratings, and personnel serving on these ships have completed passenger ship emergency familiarization, (2) require owners and operators of U.S.-flagged passenger ships that carry 12 passengers or more on international voyages to provide documentary evidence that ratings qualified under Chapters II, III, and VII of the STCW Convention have completed crowd management training, and (3) require training providers to document course completion or disenrollment for crowd management training.⁶³

⁶³ As of March 24, 2014, each school with an approved course must keep records for at least 5 years after the end of each student's completion or disenrollment from a course or program (46 CFR 10.403). Training providers are not expected to keep additional records under this collection of information, only to continue to keep the records already required.

Need for Information: The additional collection of information in the proposed rule would ensure that: (1) passenger ship personnel are trained to adequately assist passengers in the case of an emergency, (2) mariners have proof of completion of training necessary for compliance with the STCW Convention, and (3) the United States can verify and demonstrate that it has in place national regulations which implement the STCW Convention and the STCW Code, as is required of a signatory to the convention.

Proposed Use of Information: The Coast Guard would use the additional collection of information in the proposed rule to help to ensure compliance with international requirements and to maintain acceptable quality in activities associated with training and assessment of merchant mariners.

Description of the Respondents: The respondents are owners and operators of U.S.-flagged passenger ships that carry 12 passengers or more on international voyages and training providers offering crowd management courses.

Number of Respondents: The additional collection of information in this proposed rule would affect an estimated 37 passenger ship operating companies that carry 12 or more passengers on international voyages. These companies would have to document completion of passenger ship emergency familiarization for all personnel serving aboard their ships and retain documentation of a crowd management course for the ratings qualified under Chapters II, III, and VII of the STCW Convention serving aboard their ships.

Frequency of Response: Operating companies of U.S.-flagged passenger ships that carry 12 or more passengers on international voyages would be required to submit the additional information when it is requested during a PSC inspection. The required passenger ship emergency familiarization and crowd management training records would be recorded at completion, to be available upon request.

Burden of Response: According to the current collection of information, a management level officer spends about 0.083 hours (5 minutes) to document evidence of mariners' training on behalf of a ship owner or operator for each of the two crews. Given this training is delivered twice for each crew, we estimate that a management level officer will spend 0.166 hours (10 minutes) to document evidence of this training each year. Accordingly, we estimate that the proposed passenger ship emergency familiarization would increase the burden hour of the existing collection of information by approximately 17 hours annually (50 ships × 0.166 hours per response × 2 crews = 16.6 hours).

Also, according to the existing collection of information, a technical specialist spends about 0.083 hours (5 minutes) to document training records for personnel serving aboard passenger ships. Given that this proposed rule expands the applicability of the crowd management training to ratings qualified under Chapters II, III, and VII of the STCW Convention as a subset of the overall mariner population, and operating companies already record STCW training completion for this population, this creates a negligible increase in the amount of time required to document training records.

The existing collection of information for training providers shows that an administrative specialist spends about 1 hour to document course completion, including a student's performance. However, because this action is taken once annually for each approved course, this would not increase the estimated burden for training providers, although this rule may minimally increase the number of students taking a crowd management course.

Estimate of Total Annual Burden: The total estimated burden hours for this proposed rule is approximately 17 hours for operating companies of U.S.-flagged passenger ships that carry 12 or more passengers providing documentary evidence of having completed passenger ship emergency familiarization.

As required by 44 U.S.C. 3507(d), we will submit a copy of this proposed rule to OMB for its review of the collection of information.

We ask for public comment on the proposed collection of information to help us determine, among other things—

• How useful the information is;

• Whether the information can help us better perform our functions;

• How we can improve the quality, usefulness, and clarity of the information;

• Whether the information is readily available elsewhere;

• How accurate our estimate is of the burden of collection;

• How valid our methods are for determining the burden of collection; and

• How we can minimize the burden of collection.

If you submit comments on the collection of information, submit them to both the OMB and to the docket where indicated under ADDRESSES.

You need not respond to a collection of information unless it displays a currently valid control number from OMB. Before the Coast Guard could enforce the collection of information requirements in this proposed rule, OMB would need to approve the Coast Guard's request to collect this information.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis is as follows.

It is well settled that States may not regulate in categories reserved for regulation by the Coast Guard. It is also well settled that all the categories covered in 46 U.S.C. 7101, 7306, 7313 and 8101 addressing personnel qualifications, and manning of ships, and any other category in which Congress intended the Coast Guard to be the sole source of a ship's obligations, are within the field foreclosed from regulation by the States. See, e.g., United States v. Locke, 529 U.S. 89 (2000) (finding that the states are foreclosed from regulating tanker ships) see also Ray v. Atlantic Richfield Co., 435 U.S. 151, 157 (1978) (state regulation is preempted where “the scheme of federal regulation may be so pervasive as to make reasonable the inference that Congress left no room for the States to supplement it [or where] the Act of Congress may touch a field in which the federal interest is so dominant that the federal system will be assumed to preclude enforcement of state laws on the same subject.” (Citations omitted). Therefore, because the States may not regulate within these categories, this rule is consistent with the fundamental federalism principles and preemption requirements described in Executive Order 13132.

While it is well settled that States may not regulate in categories in which Congress intended the Coast Guard to be the sole source of a ship's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the potential effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standard

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01, Rev.1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble. This proposed rule would be categorically excluded under paragraphs L54 and L56 of Appendix A, table 1 of DHS Instruction Manual 023-01, Rev. 1.⁶⁴ Paragraph L54 pertains to regulations that are editorial or procedural and paragraph L56 pertains to regulations concerning the training, qualifying, licensing, and disciplining of maritime personnel.

⁶⁴ https://www.dhs.gov/sites/default/files/publications/DHS_Instruction%20Manual%20023-01-001-01%20Rev%2001_508%20Admin%20Rev.pdf (last visited 6/29/2023).

This proposed rule involves implementation of the STCW Convention and the STCW Code particularly concerning requirements for personnel serving on passenger ships on international voyages. In particular, the STCW Convention and the STCW Code requires passenger ship emergency familiarization and crowd management training to promote the safety of life at sea in the case of an emergency. We seek any comments or information that may lead to the discovery of a significant environmental impact from this proposed rule.

List of Subjects

46 CFR Part 11

Incorporation by reference, Penalties, Reporting and recordkeeping requirements, Schools, Seamen.

46 CFR Part 12

Incorporation by reference, Penalties, Reporting and recordkeeping requirements, Seamen.

For the reasons discussed in the preamble, the Coast Guard proposes to amend 46 CFR parts 11 and 12 as follows:

PART 11—REQUIREMENTS FOR OFFICER ENDORSEMENTS

1. The authority citation for part 11 is revised to read as follows:

Authority: 14 U.S.C. 503; 31 U.S.C. 9701; 46 U.S.C. 2101, 2103, and 2110; 46 U.S.C. chapter 71; 46 U.S.C. chapter 89; 46 U.S.C. 7502, 7505, 7701, and 70105; E.O. 10173; DHS Delegation No. 00170.1, Revision No. 01.4. Section 11.107 is also issued under the authority of 44 U.S.C. 3507.

2. Revise § 11.102 to read as follows:

§ 11.102 Incorporation by reference.

(a) Certain material is incorporated by reference into this part with the approval of the Director of the Federal Register under 5 U.S.C. 552(a) and 1 CFR part 51. All approved material is available for inspection at the Coast Guard, Office of Merchant Mariner Credentialing (CG-MMC) and at the National Archives and Records Administration (NARA). Contact the Coast Guard, CG-MMC at U.S. Coast Guard, Stop 7509, 2703 Martin Luther King Jr. Avenue SE, Washington, DC 20593-7509, 202-372-2357, MMCPolicy@uscg.mil. For information on the availability of this material at NARA, email: fr.inspection@nara.gov, or go to: www.archives.gov/federal-register/cfr/ibr-locations. The material may be obtained from the sources in the following paragraphs of this section.

(b) International Maritime Organization (IMO), 4 Albert Embankment, London SE1 7SR, England, +44 (0)20 7735 7611, sales@imo.org, https://imo.org.

(1) The International Convention on Standards of Training, Certification and Watchkeeping for Seafarers, 1978, 2017 Edition (the STCW Convention or the STCW), IBR approved for §§ 11.201(h); 11.426(c); 11.427(f); 11.428(c); 11.429(d); 11.493(e); 11.495(e); 11.497(c); 11.553(d); 11.555(e); 11.1001(a); 11.1003(a); 11.1009(c); and 11.1105(a).

(2) The Seafarers' Training, Certification and Watchkeeping Code, 2017 Edition (the STCW Code), IBR approved for §§ 11.201(h); 11.301(a) and (f); 11.302(a), (c), and (d); 11.303(a) through (d); 11.305(a), (c), and (e); 11.307(a), (c), and (e); 11.309(a), (d,) and (e); 11.311(a), (c), and (d); 11.313(a), (c), and (d); 11.315(a), (c), and (d); 11.317(a), (c), and (d); 11.319(a), (c), and (d); 11.321(a), (c), and (d); 11.325(a), (c), and (d); 11.327(a), (c), and (d); 11.329(a), (d), and (e); 11.331(a), (d), and (e); 11.333(a), (c), and (d); 11.335(a) through (c); 11.604; 11.901(c); 11.1001(a); 11.1003(a); and 11.1105(a).

(3) The International Convention for the Safety of Life at Sea, 1974 (SOLAS), incorporation by reference approved for § 11.601.

§ 11.305 [Amended]

3. Amend § 11.305 as follows:

a. In paragraph (a)(2), remove the text “of this part”; and

b. In paragraph (e), footnote 2 to Table 1 to § 11.305(e), after the text “not previously satisfied,” add the text “in accordance with section A-II/2 of the STCW Code (incorporated by reference, see § 11.102).”

§ 11.307 [Amended]

4. Amend § 11.307 as follows:

a. In paragraph (a)(2), remove the text “of this part”; and

b. In paragraph (e), footnote 2 to Table 1 to § 11.307(e), after the text “not previously satisfied,” add the text “in accordance with section A-II/2 of the STCW Code (incorporated by reference, see § 11.102).”

§ 11.309 [Amended]

5. Amend § 11.309 as follows:

a. In paragraph (a)(1)(ii), remove the text “of this part”; and

b. In paragraph (e), footnote 2 to Table 1 to § 11.309(e), after the text “not previously satisfied,” add the text “in accordance with section A-II/1 of the STCW Code (incorporated by reference, see § 11.102).”

§ 11.311 [Amended]

6. Amend § 11.311 as follows:

a. In paragraph (a)(2), remove the text “of this part”; and

b. In paragraph (d), footnote 2 to Table 1 to § 11.311(d), after the text “not previously satisfied,” add the text “in accordance with section A-II/2 of the STCW Code (incorporated by reference, see § 11.102).”

§ 11.313 [Amended]

7. Amend § 11.313 as follows:

a. In paragraph (a)(2), remove the text “of this part”; and

b. In paragraph (d), footnote 2 to Table 1 to § 11.313(d), after the text “not previously satisfied,” add the text “in accordance with section A-II/2 of the STCW Code (incorporated by reference, see § 11.102).”

§ 11.315 [Amended]

8. Amend § 11.315 as follows:

a. In paragraph (a)(2), remove the text “of this part”; and

b. In paragraph (d), footnote 2 to Table 1 to § 11.315(d), after the text “not previously satisfied,” add the text “in accordance with section A-II/2 of the STCW Code (incorporated by reference, see § 11.102).”

§ 11.317 [Amended]

9. Amend § 11.317 as follows:

a. In paragraph (a)(2), remove the text “of this part”; and

b. In paragraph (d), footnote 2 to Table 1 to § 11.317(d), after the text “not previously satisfied,” add the text “in accordance with section A-II/3 of the STCW Code (incorporated by reference, see § 11.102).”

§ 11.319 [Amended]

10. Amend § 11.319 as follows:

a. In paragraph (a)(1)(ii), remove the text “of this part”; and

b. In paragraph (d), footnote 2 to Table 1 to § 11.319(d), after the text “not previously satisfied,” add the text “in accordance with section A-II/1 of the STCW Code (incorporated by reference, see § 11.102).”

§ 11.321 [Amended]

11. Amend § 11.321 as follows:

a. In paragraph (a)(2), remove the text “of this part”; and

b. In paragraph (d), footnote 2 to Table 1 to § 11.321(d), after the text “not previously satisfied,” add the text “in accordance with section A-II/3 of the STCW Code (incorporated by reference, see § 11.102).”

§ 11.325 [Amended]

12. Amend § 11.325 as follows:

a. In paragraph (a)(2), remove the text “of this part”; and

b. In paragraph (d), footnote 2 to Table 1 to § 11.325(d), after the text “not previously satisfied,” add the text “in accordance with section A-III/2 of the STCW Code (incorporated by reference, see § 11.102).”

§ 11.327 [Amended]

13. Amend § 11.327 as follows:

a. In paragraph (a)(2), remove the text “of this part”; and

b. In paragraph (d), footnote 2 to Table 1 to § 11.327(d), after the text “not previously satisfied,” add the text “in accordance with section A-III/2 of the STCW Code (incorporated by reference, see § 11.102).”

14. Amend § 11.329 as follows:

a. In paragraph (a)(1)(ii), remove the text “of this part”; and

b. In paragraph (e), in table 1 to § 11.329, revise the footnotes.

The revisions read as follows:

§ 11.329 Requirements to qualify for an STCW endorsement as Officer in Charge of an Engineering Watch (OICEW) in a manned engineroom or designated duty engineer in a periodically unmanned engineroom on vessels powered by main propulsion machinery of 750 kW/1,000 HP propulsion power or more (operational level).

* * * * *

(e) * * *

Table 1 to § 11.329(e)—STCW Endorsement as OICEW in a Manned Engine Room or Designated Duty Engineer in a Periodically Unmanned Engine Room on Vessels Powered by Main Propulsion Machinery of 750 kW/1,000 HP Propulsion Power or More
[Operational level]
Entry path from national endorsements | Sea service ¹ | Competence— STCW Table A-III/1 ² | Training required by this section ³
* * * * * * *
Designated duty engineer, 3,000 kW/4,000 HP ⁴ | 12 months | Yes | Yes
Designated duty engineer, 750 kW/1,000 HP ⁴ | 24 months | Yes | Yes
¹ This column provides the minimum additional service required of the seafarer in order to meet the requirements of this section.
² Complete any items in paragraph (a)(3) of this section not previously satisfied in accordance with section A-III/1 of the STCW Code (incorporated by reference, see § 11.102).
³ Complete any items in paragraph (a)(4) of this section not previously satisfied.
⁴ STCW certificate should be limited to vessels less than 500 GRT.

§ 11.331 [Amended]

15. Amend § 11.331 as follows:

a. In paragraph (a)(2), remove the text “of this part”; and

b. In paragraph (e), footnote 2 to Table 1 to § 11.331(e), after the text “not previously satisfied,” add the text in accordance with section A-III/3 of the STCW Code (incorporated by reference, see § 11.102).”

§ 11.333 [Amended]

16. Amend § 11.333 as follows:

a. In paragraph (a)(2), remove the text “of this part”; and

b. In paragraph (d), footnote 2 to Table 1 to § 11.333(d), after the text “not previously satisfied,” add the text “in accordance with section A-III/3 of the STCW Code (incorporated by reference, see § 11.102).”

Subpart K—Officers and Personnel on a Passenger Ship When on an International Voyage

17. Revise § 11.1105 to read as follows:

§ 11.1105 General requirements.

(a) To serve on a passenger ship on international voyages, before being assigned shipboard duties, masters, deck officers, chief engineers, and engineer officers must meet the appropriate requirements of the STCW Regulation V/2 and of section A-V/2 of the STCW Code (incorporated by reference, see § 11.102) as follows:

(1) Officers and personnel must have completed passenger ship emergency familiarization appropriate to their capacity, duties, and responsibilities as specified in section A-V/2 paragraph 1 of the STCW Code.

(2) Officers and personnel providing direct service to passengers in passenger spaces must have completed passenger ship safety training specified in section A-V/2 paragraph 2 of the STCW Code.

(3) Masters, officers, ratings qualified under Chapters II, III, and VII of the STCW Convention, and personnel designated on muster lists to assist passengers in emergency situations must have completed approved or accepted training in passenger ship crowd management specified in section A-V/2 paragraph 3 of the STCW Code.

(4) Masters, chief engineer officers, chief mates, second engineer officers, and any person designated on muster lists as having responsibility for the safety of passengers in emergency situations onboard passenger ships must have completed approved or accepted training in crisis management and human behavior as specified in section A-V/2 paragraph 4 of the STCW Code.

(5) Masters, chief engineer officers, chief mates, second engineer officers, and every person assigned immediate responsibility for embarking and disembarking passengers, loading, discharging, or securing cargo, or closing hull openings onboard ro-ro passenger ships must have completed approved or accepted training in passenger safety, cargo safety, and hull integrity as specified in section A-V/2 paragraph 5 of the STCW Code.

(b) Personnel required to be trained in accordance with paragraph (a) of this section must hold documentary evidence of successful completion of training as proof of meeting these requirements.

(c) Personnel required to be trained in accordance with paragraphs (a)(3), (a)(4), or (a)(5) of this section must provide, at intervals not exceeding 5 years, evidence of maintaining the standard of competence.

(d) The Coast Guard will accept onboard training and experience, through evidence of 1 year of relevant seagoing service within the last 5 years, as meeting the requirements of paragraph (c) of this section.

(e) Personnel serving onboard small passenger ships engaged in domestic, near-coastal voyages, as defined in § 10.107 of this subchapter, are not subject to any obligation for the purpose of this STCW requirement.

PART 12—REQUIREMENTS FOR RATING ENDORSEMENTS

18. The authority citation for part 12 is revised to read as follows:

Authority: 31 U.S.C. 9701; 46 U.S.C. 2101, 2103, 2110, 7301, 7302, 7303-7316, 7503, 7505, 7701, and 70105; DHS Delegation No. 00170.1, Revision No. 01.4.

19. Revise § 12.103 to read as follows:

§ 12.103 Incorporation by reference.

(a) Certain material is incorporated by reference into this part with the approval of the Director of the Federal Register under 5 U.S.C. 552(a) and 1 CFR part 51. All approved material is available for inspection at the Coast Guard, Office of Merchant Mariner Credentialing (CG-MMC) and at the National Archives and Records Administration (NARA). Contact Coast Guard, CG-MMC at U.S. Coast Guard, Stop 7509, 2703 Martin Luther King Jr. Avenue SE, Washington, DC 20593-7509, 202-372-2357, MMCPolicy@uscg.mil. For information on the availability of this material at NARA, email: fr.inspection@nara.gov, or go to: www.archives.gov/federal-register/cfr/ibr-locations. The material may be obtained from the sources in the following paragraphs of this section.

(b) International Maritime Organization (IMO), 4 Albert Embankment, London SE1 7SR, England; + 44(0)20 7735 7611; sales@imo.org; www.imo.org.

(1) The International Convention on Standards of Training, Certification and Watchkeeping for Seafarers, 1978, 2017 Edition (the STCW Convention or the STCW), IBR approved for §§ 12.811(a) and 12.905(a).

(2) The Seafarers' Training, Certification and Watchkeeping Code, 2017 Edition (the STCW Code); IBR approved for §§ 12.601(b); 12.602(a), (c), and (d); 12.603(a), (c), and (d); 12.605(a) through (c); 12.607(a) and (c)); 12.609(a) through (c); 12.611(a) through (c); 12.613(a) and (b); 12.615(a) and (b); 12.617(a) and (b); 12.619(a); 12.621(a); 12.623(b); 12.811(a); and 12.905(a).

§ 12.603 [Amended]

20. Amend § 12.603 as follows:

a. In paragraph (a)(4), remove the text “of this part”;

b. In paragraph (d), footnote 2 to Table 1 to § 12.603(d), after the text “not previously satisfied,” add the text “in accordance with section A-II/4 of the STCW Code (incorporated by reference, see § 12.103).”; and

c. In paragraph (d), footnote 3 to Table 1 to § 12.603(d), after the text “not previously satisfied,” add the text “in accordance with section A-II/5 of the STCW Code (incorporated by reference, see § 12.103).”

§ 12.605 [Amended]

21. Amend § 12.605 as follows:

a. In paragraph (a)(3), remove the text “of this part”; and

b. In paragraph (c), footnote 2 to Table 1 to § 12.605(c), after the text “not previously satisfied,” add the text “in accordance with Table A-II/4 of the STCW Code (incorporated by reference, see § 12.103).”

§ 12.607 [Amended]

22. In § 12.607(a)(4), remove the text “of this part”.

§ 12.609 [Amended]

23. Amend § 12.609 as follows:

a. In paragraph (a)(3), remove the text “of this part”; and

b. In paragraph (c), footnote 2 to Table 1 to § 12.609(c), after the text “not previously satisfied,” add the text “in accordance with Table A-III/4 of the STCW Code (incorporated by reference, see § 12.103).”

§ 12.611 [Amended]

24. Amend § 12.611 as follows:

a. In paragraph (a)(2)(iii), remove the text “of this part”; and

b. In paragraph (c), footnote 2 to Table 1 to § 12.611(c), after the text “not previously satisfied,” add the text “in accordance with Table A-III/7 of the STCW Code (incorporated by reference, see § 12.103).

25. Revise the subpart heading to subpart I to read as follows:

Subpart I—Ratings and Personnel on a Passenger Ship When on an International Voyage

§ 12.901 [Amended]

26. In § 12.901, remove the word “part” and add, in its place, the word “subpart”.

27. Revise § 12.905 to read as follows:

§ 12.905 General requirements.

(a) To serve on a passenger ship on an international voyage, before being assigned shipboard duties, personnel must meet the appropriate requirements in STCW Regulation V/2 and section A-V/2 of the STCW Code (both incorporated by reference, see § 12.103) as follows:

(1) All personnel must have completed passenger ship emergency familiarization appropriate to their capacity, duties, and responsibilities as specified in section A-V/2 paragraph 1 of the STCW Code.

(2) Personnel providing direct service to passengers in passenger spaces must have completed the passenger ship safety training specified in section A-V/2 paragraph 2 of the STCW Code.

(3) Ratings qualified under Chapters II, III, and VII of the STCW Convention and personnel designated on the muster list to assist passengers in emergency situations must have completed approved or accepted training in passenger ship crowd management specified in section A-V/2 paragraph 3 of the STCW Code.

(4) Personnel designated on muster lists as having responsibility for the safety of passengers in emergency situations onboard passenger ships must have completed approved or accepted training in crisis management and human behavior as specified in section A-V/2 paragraph 4 of the STCW Code.

(5) Personnel assigned immediate responsibility for embarking and disembarking passengers, loading, discharging, or securing cargo, or closing hull openings onboard ro-ro passenger ships must have completed approved or accepted training in passenger safety, cargo safety, and hull integrity as specified in section A-V/2 paragraph 5 of the STCW Code.

(b) Personnel required to be trained in accordance with paragraph (a) of this section must hold documentary evidence of successful completion of training as proof of meeting these requirements.

(c) Personnel required to be trained in accordance with paragraph (a)(3), (a)(4), or (a)(5) of this section must provide, at intervals not exceeding 5 years, evidence of maintaining the standard of competence.

(d) The Coast Guard will accept onboard training and experience, through evidence of 1 year of relevant seagoing service within the last 5 years, as meeting the requirements of paragraph (c) of this section.

(e) Personnel serving onboard small passenger vessels engaged in domestic, near-coastal voyages, as defined in § 15.105(g)(1) of this subchapter, are not subject to any obligation for the purpose of this STCW requirement.

Dated: June 13, 2024.
W.R. Arguin,
Rear Admiral, U.S. Coast Guard, Assistant Commandant for Prevention Policy.

[FR Doc. 2024-13455 Filed 6-20-24; 8:45 am]

BILLING CODE 9110-04-P